DEPARTMENT OF TRANSPORTATION

Federal Aviation Administration

14 CFR Parts 43, 65, and 147

[Docket No.: FAA-2021-0237; Amdt. Nos. 43-52, 65-63, 147-9]

RIN 2120-AL67

Aviation Maintenance Technician Schools

AGENCY: Federal Aviation Administration (FAA), Department of Transportation (DOT).

ACTION: Interim final rule; request for comments.

SUMMARY: This final rule establishes regulations that conform with the Aircraft Certification, Safety, and Accountability Act, which sets forth statutory requirements to implement regulations for maintenance technician training. Consistent with the statute, this final rule adopts new requirements for issuing aviation maintenance technician school (AMTS) certificates and associated ratings and the general operating rules for the holders of those certificates and ratings.

DATES: This rule is effective September 21, 2022, except for amendatory instructions 6 and 9, which are effective August 1, 2023. Comments must be received on or before June 23, 2022. The incorporation by reference of certain publications listed in this rule is approved by the Director of the Federal Register as of September 21, 2022.

ADDRESSES: You may send comments identified by docket number FAA-2021-0237 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or visit Docket Operations in Room W12-140 of the West Building Ground Floor at 1200 New Jersey Avenue SE, Washington, DC, between 9 a.m. and 5 p.m., Monday through Friday, except Federal holidays.

FOR FURTHER INFORMATION CONTACT: For technical questions concerning this action, contact Tanya Glines, Aircraft Maintenance Division, Federal Aviation Administration, 800 Independence Avenue SW, Washington, DC 20591; telephone (202) 380-5896; email Tanya.Glines@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Title 49, Subtitle VII, Part A, Subpart I, Chapter 401, Section 40113 (prescribing general authority of the Administrator of the FAA, with respect to aviation safety duties and powers, to prescribe regulations); and Subpart III, Chapter 447, Sections 44701 (general authority of the Administrator to prescribe regulations and minimum standards in the interest of safety for inspecting, servicing, and overhauling aircraft, engines, propellers, and appliances, including for other practices, methods, and procedures necessary for safety in air commerce); 44702 (authority of the Administrator to issue air agency certificates); 44703 (authority of the Administrator to issue airman certificates); 44707 (authority of the Administrator to examine and rate air agencies, including civilian schools giving instruction in repairing, altering, and maintaining aircraft, aircraft engines, propellers, and appliances, on the adequacy of instruction, the suitability and airworthiness of equipment, and the competency of instructors); and 44709 (authority of the Administrator to amend, modify, suspend, and revoke air agency and other FAA-issued certificates).

This rule is further promulgated under Section 135 of the Aircraft Certification, Safety, and Accountability Act in Public Law 116-260, the Consolidated Appropriations Act of 2021. Section 135, titled “Promoting Aviation Regulations for Technical Training,” provides the requirements and terms of this rule.

Good Cause for Immediate Adoption

Section 553(b)(3)(B) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking.

The FAA finds good cause under 5 U.S.C. 553(b)(3)(B) to waive prior notice and the opportunity for public comment because such procedures would be unnecessary and contrary to the public interest. On December 27, 2020, Congress passed the Consolidated Appropriations Act (Pub. L. 116-260), which includes the Aircraft Certification, Safety, and Accountability Act (the “Act”). In Section 135 of the Act, titled “Promoting Aviation Regulations for Technical Training,” Congress directed the FAA to issue interim final regulations to establish requirements for issuing aviation maintenance technician school (AMTS) certificates and associated ratings and the general operating rules for the holders of those certificates and ratings. Section 135(a)(1) of the Act expressly requires the FAA to issue the interim final regulations in accordance with the requirements set forth in Section 135. In this interim final rule, the FAA is simply adopting the statutory language and implementing that language directly into the regulations.¹ Accordingly, the FAA finds it unnecessary to provide notice and an opportunity to comment prior to issuing this final rule.

¹ As explained herein, in order to achieve the statutory objectives promulgated by the Act and ensure consistency between the regulations and the statutory terminology, the FAA has made certain revisions that are not expressly stated in the legislation.

The FAA further finds that delaying implementation of this rule to allow for notice and comment would be contrary to the public interest. Because the interim final rule must implement the statutory requirements of Section 135 of the Act, the FAA does not have discretion to propose requirements that are contrary to, or that exceed the bounds of, the statute. Similarly, the FAA does not have the discretion to change the statutory requirements based on public comments received. Therefore, delaying issuance of this final rule would merely delay the new requirements that Congress sought to provide the AMTS industry.

Paperwork Reduction Act

Affected parties are not required to comply with the information collection requirements in §§ 147.5, 147.15, 147.17, 147.21, 147.23, and 147.31, until the Office of Management and Budget (OMB) approves the revised collection 2120-0040 under the Paperwork Reduction Act of 1995. The FAA will publish in the Federal Register a notice of approval by the Office of Management and Budget (OMB) for these information collection requirements.

Comments Invited

Consistent with the Regulatory Policies and Procedures of the Department of Transportation (DOT) (44 FR 11034; February 26, 1979), which provide that, to the maximum extent possible, operating administrations for the DOT should provide an opportunity for public comment on regulations issued without prior notice, the FAA requests comment on this interim final rule. The FAA encourages persons to participate in this rulemaking by submitting written comments containing relevant information, data, or views. The FAA also invites comments relating to the economic, environmental, energy, or federalism impacts that might result from adopting this final rule. The FAA will consider comments received on or before the closing date for comments. The FAA will also consider late filed comments to the extent practicable. This interim final rule may be amended based on comments received.

See section VI., titled “How to Obtain Additional Information,” for information on how to comment on this interim final rule and how the FAA will handle comments received. This section also contains related information about the docket, privacy, and the handling of proprietary or confidential business information. In addition, there is information on obtaining copies of related rulemaking documents.

List of Abbreviations and Acronyms Frequently Used in This Document

AMTS—Aviation maintenance technician school(s)

OpSpecs—Operations Specifications

The Act—the Aircraft Certification, Safety, and Accountability Act

Table of Contents

I. Overview of Interim Final Rule

II. Background

a. History of Part 147

b. Notice of Proposed Rulemaking (NPRM) and Supplemental Notice of Proposed Rulemaking (SNPRM)

c. Section 135, Promoting Aviation Regulations for Technical Training

III. Discussion of the Interim Final Rule

a. Applicability of New Part 147 (§ 147.1)

b. AMTS Certification Required (§ 147.3)

c. Certificate and Operations Specifications Requirements

1. Application Requirements (§ 147.5)

2. Duration (§ 147.7)

3. Certificate Ratings (§ 147.11)

4. Operations Specifications (OpSpecs)

d. Certification and Operating Requirements (Subpart B)

1. Facilities, Equipment, and Material Requirements (§ 147.13)

2. Training Provided at Another Location (§ 147.15)

3. Training Requirements (§ 147.17 and 1 CFR Part 51)

A. Incorporation by Reference (1 CFR Part 51)

B. Curriculum Requirements (§ 147.17(a)(1) and (b))

C. Conforming Amendments To Incorporate the Mechanic ACS by Reference (§§ 65.23, 65.75, and 65.79)

D. Remaining Training Requirements (§ 147.17(a)(2) and (3))

4. Instructor Requirements (§ 147.19)

5. Certificate of Completion (§ 147.21)

e. Quality Control System Requirements (§ 147.23)

1. Quality Control System: Accreditation (§ 147.23(a))

2. Quality Control System: FAA-Approved System (§ 147.23(b))

f. Additional Requirements (Subpart B)

1. Minimum Passage Rate (§ 147.25)

2. FAA Inspection (§ 147.27)

3. Display of Certificate (§ 147.29)

4. Early Testing (§ 147.31)

g. Conforming Amendments

1. Appendix A to Part 43

2. Section 65.80

h. Part 147 Rule Organization and Numbering

IV. Regulatory Notices and Analyses

V. Executive Order Determinations

VI. How To Obtain Additional Information

I. Overview of Interim Final Rule

The Consolidated Appropriations Act (Pub. L. 116-260), which includes the Act, was enacted on December 27, 2020. Section 135 of the Act, titled “Promoting Aviation Regulations for Technician Training,” directed the FAA to “issue interim final regulations to establish requirements for issuing [AMTS] certificates and associated ratings and the general operating rules for the holders of those certificates and ratings in accordance with the requirements of [Section 135].” Additionally, Section 135 of the Act states that current part 147 shall have no force or effect on or after the effective date of the interim final regulations.

This interim final rule replaces the current regulations in part 147 with new regulations that conform to the legislation. In the preamble to this interim final rule, the FAA reiterates the provisions of Section 135 of the Act and explains how it is implementing those provisions in the regulations. Additionally, the FAA is making conforming amendments to parts 43 and 65 to effectuate the legislation.

II. Background

a. History of Part 147

Part 147 prescribes the requirements for the certification and operation of FAA-certificated AMTS, including the curriculum requirements. Part 147 originated as Civil Air Regulations (CAR) part 53 in 1940.² As a result of the recodification of the CARs in 1962, CAR part 53 became 14 CFR part 147.³ In 1970, the FAA issued a final rule that changed the name of “mechanic schools” to “aviation maintenance technician schools,” provided more specific guidelines for the certification and operation of schools, increased the required core curriculum hours from 1,500 to 1,900, and further defined teaching guidelines and subject content to reflect technological advancements in the aviation industry.⁴ In 1992, the FAA revised part 147 by adding a definition in Appendix A for “teaching materials and equipment” to include the use of computers in the training environment. The FAA also revised the headings of several subjects in Appendices B, C, and D to better reflect course content, added course content items within several subject areas, and added two new subject headings with related course content items for “Unducted Fans” and “Auxiliary Power Units”.⁵ Subsequently, in 1992, the FAA made a minor amendment to § 147.21 as part of another rulemaking.⁶ Specifically, the FAA added a provision to § 147.21 that allowed AMTSs to apply for and receive approval of special courses in the performance of inspection and maintenance on primary category aircraft, and authorized the school to issue certificates of competency to persons successfully completing such courses.⁷ There have been no further revisions to part 147.

² Providing for the Rating and Certification of Civilian Schools giving Instruction in Aircraft and Aircraft Engine Mechanics; 5 FR 673 (Feb. 15, 1940) (amending the Civil Air Regulations by adding new Part 53, effective May 1, 1940).

³ Schools and Other Certificated Agencies; 27 FR 6655 (Jul. 13, 1962).

⁴ Name, Operations, and Curriculum; 35 FR 5531 (Apr. 3, 1970).

⁵ Revision of Aviation Maintenance Technician Schools Regulations; 57 FR 28952 (Jun. 29, 1992).

⁶ Primary Category; 57 FR 41360 (Sept. 9, 1992).

⁷ 57 FR at 41366, 41370.

b. Notice of Proposed Rulemaking (NPRM) and Supplemental Notice of Proposed Rulemaking (SNPRM)

On October 2, 2015, the FAA published an NPRM titled “Aviation Maintenance Technician Schools.” ⁸ In the NPRM, the FAA proposed to amend the regulations governing the curriculum and operation of FAA-certificated AMTSs. The FAA proposed to modernize and reorganize the required curriculum subjects found in the appendices of the current regulation, remove the course content items from the appendices and relocate them to each school's OpSpecs, and revise the curriculum requirements to include an option for schools to use a credit hour curriculum. The comment period for the NPRM closed on December 31, 2015, which was subsequently extended to February 1, 2016, based on a joint request for extension from several industry groups.⁹

⁸ 80 FR 59674.

⁹ Aviation Maintenance Technician Schools; 80 FR 72404 (Nov. 19, 2015).

After considering the comments to the NPRM, and the potential benefits to industry, the FAA decided to expand the scope of the rulemaking by issuing an SNPRM, published on April 16, 2019.¹⁰ The SNPRM proposed (1) to allow curriculum based training (CBT) programs as a curriculum delivery, (2) to allow the establishment of satellite training locations, and (3) to remove the national passing norm requirements in § 147.37 and replace them with a standard pass rate. The comment period closed on June 17, 2019.

¹⁰ 83 FR 15533.

c. Section 135, Promoting Aviation Regulations for Technical Training

While the FAA was in the process of completing the final rule, which would have responded to all significant comments received on the NPRM and SNPRM, Congress passed the Act which required the FAA to replace part 147, as in effect on the date of enactment of Section 135, with new regulations that conform to the statutory requirements. Congress directed the FAA to issue interim final regulations, not later than 90 days after the date of enactment of the Act, to establish requirements for issuing aviation maintenance technician school certificates and associated ratings and the general operating rules for the holders of those certificates and ratings.

Pursuant to Section 135(a)(1) of the Act, the FAA must issue the interim final regulations in accordance with the requirements set forth in Section 135, including requirements addressing:

• When an AMTS certificate is required;

• Applications for AMTS certificates and associated ratings, additional ratings, and changes to certificates;

• Operations specifications and the contents thereof;

• The duration of a certificate or rating issued under part 147;

• The ratings that an AMTS may obtain under part 147;

• AMTS facilities, equipment, and material;

• Training provided at another location;

• AMTS training and curricula;

• Instructors;

• Certificates of completion;

• Quality control systems;

• The minimum passage rate each school must maintain;

• FAA inspections;

• The display of part 147 certificates; and

• A student's ability to take the FAA's general written test prior to satisfying the experience requirements of § 65.77, provided certain conditions are met.

Additionally, the statute states that the current part 147 regulations and any regulations issued under § 624 of the FAA Reauthorization Act of 2018, shall have no force or effect on or after the effective date of the interim final rule. As a result, this interim final rule repeals and replaces current part 147.

Upon review of Section 135, the FAA determined that the proposed requirements in the NPRM and SNPRM were inconsistent with the statutory mandate. Therefore, to comply with Section 135, the FAA is publishing a Federal Register Notice withdrawing the NPRM (Notice No. 15-10) and SNPRM (Notice No. 19-02) concurrent with this interim final rule. Instead of finalizing those proposals, the FAA is issuing this interim final rule to establish requirements for certificated AMTSs in accordance with Section 135 of the Act.

III. Discussion of the Interim Final Rule

Section 135(b) through (f) of the Act contain several requirements that govern the certification and operation of AMTSs. The following sections reiterate the provisions of Section 135 and describe how the FAA is implementing each provision into new part 147. Additionally, section III.g. of this preamble, titled “Part 147 Rule Organization and Numbering,” provides tables to show which sections of current part 147 will be repealed and not replaced, which sections will be replaced and renumbered, and the organization and numbering of new part 147.

a. Applicability of New Part 147 (§ 147.1)

Section 135(a)(1) requires the FAA to establish requirements for issuing AMTS certificates and associated ratings and the general operating rules for the holders of those certificates and ratings in accordance with the legislation. Based on this statutory provision, the applicability outlined in Section 135 is consistent with the current applicability provision in § 147.1.¹¹ Current part 147, including the applicability provision, will be repealed in its entirety on the effective date of this interim final rule, pursuant to Section 135(a)(2). However, consistent with Section 135(a)(1), new part 147 will continue to prescribe the requirements for issuing AMTS certificates and associated ratings and the general operating rules for the holders of those certificates and ratings.¹² The FAA is implementing the applicability language of Section 135(a)(1) in new § 147.1 to specify the applicability of new part 147.

¹¹ Current § 147.1 states that “[part 147] prescribes the requirements for issuing aviation maintenance technician school certificates and associated ratings and the general operating rules for the holders of those certificates and ratings.”

¹² While the applicability of part 147 remains the same under this interim final rule, the requirements in new part 147 differ because the statute requires the FAA to establish requirements in accordance with the statutory requirements set forth in Section 135.

Upon the effective date of this interim final rule, a currently certificated AMTS may not continue to operate unless it meets all of the applicable requirements of new part 147. A certificated AMTS will not be able to use previous part 147 regulations because current part 147 shall have no force or effect on or after the effective date of the interim final regulations. As such, it is essential for certificated AMTSs to take the necessary steps to comply with new part 147 by the effective date of the regulation.¹³

¹³ As discussed in greater detail herein, these steps include curriculum revision to align with the Mechanic Airman Certification Standards (ACS) and necessary updates to OpSpecs.

Further, many certificated AMTSs hold exemptions to existing part 147 and related part 65 regulations. Because current part 147 is wholly repealed and replaced upon the effective date of the interim final rule, these exemptions, which are specified and discussed herein, as relevant, will terminate upon the effective date of this interim final rule. However, the FAA notes that the vast majority of the grounds for requested relief will be cured upon the effective date of this interim final rule by new part 147.

b. AMTS Certification Required (§ 147.3)

Section 135(b) states that no person may operate an AMTS without, or in violation of, an AMTS certificate and the OpSpecs issued under the interim final regulations required under Section 135(a)(1), the requirements of Section 135, or in a manner that is inconsistent with information in the school's OpSpecs under Section 135(c)(5). This statutory requirement is similar to current § 147.3, but extends the requirement to OpSpecs in addition to AMTS certificates.

The FAA is implementing the requirements of Section 135(b) in new § 147.3, which will state that no person may operate an AMTS without, or in violation of, an AMTS certificate and the OpSpecs “issued under [part 147].” The FAA determined that it is unnecessary for § 147.3 to expressly state that a person may not operate in violation of the requirements of Section 135, which will be implemented in part 147, because a certificated AMTS must comply with applicable statutory and regulatory requirements irrespective of whether the FAA expressly prohibits non-compliance in § 147.3. Furthermore, the FAA is not codifying the portion of Section 135(b) that prohibits a school from acting in a manner inconsistent with its OpSpecs because this prohibition is redundant to the statement that prohibits schools from operating in violation of their OpSpecs.

Section 135(b) states, in pertinent part, that no person may operate an AMTS in violation of the requirements of Section 135. This would appear to indicate that the Administrator does not have the authority to grant exemptions ¹⁴ from new part 147 because the inherent nature of an exemption would act as a departure from the requirements of Section 135. However, within the legislation, Section 135(c) states that a certificated AMTS shall operate in accordance with operations specifications that include, among other information, any regulatory exemption granted to the school by the Administrator. Additionally, the language in Section 135(b) echoes this sentiment of compliance with regulatory exemptions, stating that no person may operate an AMTS in a manner that is inconsistent with information in the school's operations specifications under Section 135(c)(5), which, as stated, includes regulatory exemptions. Therefore, the contemplation of and requirements of compliance with regulatory exemptions in the legislation demonstrates that Congress intended that the FAA retain the authority to issue exemptions from part 147, as warranted under the Administrator's authority and 14 CFR part 11.

¹⁴ The Administrator's authority to grant exemptions is pursuant to 49 U.S.C. 40109(b).

c. Certificate and Operations Specifications Requirements

Section 135(c)(1) through (5) of the Act contain several requirements that govern applications for certificates and ratings under part 147, the duration of those certificates and ratings, the types of ratings that may be issued on a certificate, and the content of OpSpecs. The FAA is implementing the application, duration, and rating requirements in subpart A of part 147, which is titled “General.” For the reasons discussed herein, the FAA is not codifying the content requirements of OpSpecs in the regulations. The following sections discuss the statutory requirements and the FAA's implementation of those requirements in more detail.

1. Application Requirements (§ 147.5)

Section 135(c)(1)(A) requires an application for a certificate or rating to operate an AMTS to include three descriptions. First, the application must describe the facilities, including the physical address of the certificate holder's primary location for operation of the school, any additional fixed locations where training will be provided, and the equipment and materials to be used at each location.¹⁵ Second, the application must describe the manner in which the school's curriculum will ensure the student has the knowledge and skills necessary for attaining a mechanic certificate and associated ratings under subpart D of part 65.¹⁶ Third, the application must describe the manner in which the school will ensure it provides the necessary qualified instructors to meet the requirements of Section 135(d)(4).¹⁷ Upon issuance of the school's certificate or rating, Section 135(c)(1)(B) requires these descriptions to be documented in the school's OpSpecs.

¹⁵ Section 135(c)(1)(A)(i).

¹⁶ Section 135(c)(1)(A)(ii).

¹⁷ Section 135(c)(1)(A)(iii). As discussed in section III.d.4. of this preamble, titled “Instructor Requirements,” the instructor requirements of Section 135(d)(4) are being implemented in new § 147.19. Accordingly, new § 147.5(b)(3) includes a cross-reference to § 147.19.

Section 135 also contains requirements for a school seeking to add a rating or amend a certificate. Specifically, Section 135(c)(2)(A) requires an application for an additional rating or amended certificate to include only the information necessary to substantiate the reason for the requested additional rating or change. Section 135(c)(2)(B) requires any approved changes to be documented in the school's OpSpecs.

The FAA is implementing the application requirements of Section 135(c)(1) and (2) in new § 147.5. Section 147.5(b) will contain the requirements for an application for an initial certificate and rating. Section 147.5(c) will contain the requirements for an application for an additional rating or amended certificate. The language in § 147.5(b) and (c) mirrors the statute except for one editorial change and two minor terminology changes. First, in § 147.5(b), the FAA is making clear that the application requirements for initial certification apply to an application for “a certificate and rating” rather than “a certificate or rating.” When a person applies for an air agency certificate under part 147, that person must also apply for at least one rating. Section 147.11 prescribes the ratings that a school may obtain under part 147. The FAA may not issue a certificate independent of a rating. Nor may the FAA issue a rating without an underlying certificate. It is therefore accurate to state “certificate and rating” in § 147.5(b).¹⁸ Second, in § 147.5(b)(1), the FAA finds that the term “applicant” is appropriate rather than “certificate holder” because an applicant under § 147.5(b)(1) is applying for its initial AMTS certificate and rating. As such, the applicant does not yet hold an air agency certificate under part 147. Lastly, in § 147.5(c), which applies to current certificate holders seeking to add a rating or amend their certificate, the FAA is adding a cross-reference to the information listed in § 147.5(b) for clarity and is using the word “sought” rather than “requested.” These minor modifications from the statutory language do not alter the meaning or affect the implementation of the statutory requirements.

¹⁸ The FAA notes that a school may apply for an additional rating, which would be placed on the school's part 147 certificate. Section 147.5(c) contains the application requirements for an additional rating.

In codifying the statutory requirements of Section 135(c) in new § 147.5, the FAA discovered that Section 135 lacks an eligibility standard for the issuance of an AMTS certificate. Under Section 44702 of Title 49 of the United States Code, the FAA has statutory authority to issue air agency certificates. A certificate issued under part 147 is one of the air agency certificates issued by the FAA under 49 U.S.C. 44707. Section 135(c) prescribes only the content that must be included in an application for a certificate and rating, or for an additional rating or amended certificate. Section 135(c) is silent, however, with respect to the eligibility standard an applicant must meet to be issued a part 147 certificate. For example, merely providing descriptions of the applicant's facilities, equipment, and materials on the application for a certificate is not sufficient basis for the FAA to issue a certificate. Those facilities, equipment, and materials must meet the substantive requirements in Section 135 that require a school's facilities, equipment, and materials to be “appropriate” to the ratings held and the number of students taught. The FAA's decision to issue a certificate should not be based solely on the fact that descriptions were provided but rather on whether the descriptions in the application demonstrate that the applicant is eligible to operate as a certificated AMTS.

The FAA reviewed Section 135 in its entirety to determine whether another statutory provision contains the eligibility standard for issuing a part 147 certificate. While the statute does not expressly state what makes an applicant eligible for a certificate and rating, Section 135(b) provides context for making the determination. Section 135(b) prohibits a person from operating as an AMTS in violation of the requirements of Section 135. As discussed throughout this preamble, the FAA is implementing the requirements of Section 135 in part 147. Therefore, consistent with Section 135(b), a person may not operate as an AMTS in violation of the requirements of part 147.

Because an applicant seeking an AMTS certificate may not operate as a certificated AMTS in violation of the requirements of part 147, the FAA finds it reasonable to require the applicant to demonstrate compliance with the requirements of part 147 to be issued a certificate or rating under part 147. If the FAA does not assess whether an applicant complies with the appropriate requirements of part 147 at the application stage, the FAA could exercise its inspection authority to determine compliance with the requirements of part 147 immediately upon issuing the certificate or rating to the school.¹⁹ The FAA has determined, however, that it is reasonable to require the applicant to demonstrate compliance with the applicable requirements as a means of determining eligibility for the issuance of a part 147 air agency certificate.²⁰ The FAA is codifying this standard in new § 147.5(a) by expressly stating that, to be issued a certificate, an applicant must demonstrate compliance with the requirements of part 147.

¹⁹ The FAA's inspection authority, which is prescribed by Section 135(f)(2) and codified in § 147.27, requires a certificated AMTS to allow the FAA such access as the FAA determines necessary to inspect the school for purposes of determining the school's compliance with part 147. Thus, the FAA may conduct an inspection at a certificated AMTS at any time after issuance of the part 147 certificate and rating.

²⁰ See § 141.5(c) (stating the FAA may issue a pilot school certificate with the appropriate ratings if, within the 24 calendar months before the date application is made, the applicant meets the applicable requirements under subparts A through C of part 141 for the school certificate and associated ratings sought); § 142.11(d) (stating that an applicant who meets the requirements of part 142 and is approved by the Administrator is entitled to a training center certificate and training specifications); § 145.53 (stating that, except as provided in § 145.51(e) or § 145.53(b), (c), or (d), a person who meets the requirements of subparts A through E of part 145 is entitled to a repair station certificate with appropriate ratings).

To demonstrate compliance with certain requirements of part 147 pursuant to new § 147.5(a), the applicant may be required to present certain information to the FAA. To effectuate this, the FAA is adding new § 147.5(b)(4) to the application requirements. New § 147.5(b)(4) requires the application to include any additional information necessary to demonstrate compliance with the requirements of part 147. This additional requirement is supported by the plain language of the statute, which states that an application for a certificate or rating to operate an AMTS shall “include” the information listed in Section 135(c)(1)(A)(i) through (iii). In the statutory context, the term “include” has been construed to provide an illustration of the general concept, not an all-inclusive and exhaustive list.²¹ As such, the application for a certificate or rating must include the items prescribed by the statute; however, the FAA is not limited to prescribing only those items.

²¹ See Federal Land Bank of St. Paul v. Bismarck Lumber Co., 314 U.S. 95, 100 (1941) (stating that “the term “including” is not one of all-embracing definition, but connotes simply an illustrative application of the general principle.”).

As previously stated, the FAA is codifying the requirements of Section 135(c)(2), which apply to applications for an additional rating or amended certificate, in new § 147.5(c). Consistent with the statute, new § 147.5(c) will require an application for an additional rating or amended certificate to include only the information required by § 147.5(b) that is necessary to substantiate the reason for the additional rating or change sought. An amended certificate would be required if any of the information on the air agency certificate had changed, such as the name of the certificate holder, the principal address of the certificate holder, or the removal of a rating. The FAA notes that adding a rating would also require an amendment to the air agency certificate, however, the statute expressly states “additional rating or amended certificate.” The implementing regulation reflects the statutory terminology.

Section 135(c)(1)(B) and (2)(B) require certain content to be included in OpSpecs: The descriptions required for an application and any approved changes for an additional rating or amended certificate, respectively. However, the FAA finds that these requirements do not belong in the regulations because they govern the conduct of the FAA rather than the regulated community. As a result, the FAA will not codify these requirements in part 147. Instead, the FAA will include guidance to its inspectors in FAA Order 8900.1 to ensure FAA's compliance with these statutory requirements that govern the content of OpSpecs.

2. Duration (§ 147.7)

Section 135(c)(3) states that an AMTS certificate or rating issued under the interim final regulations shall be effective from the date of issue until the certificate or rating is surrendered, suspended, or revoked. This statutory requirement is largely consistent with the FAA's current duration requirement in § 147.7(a). However, unlike current § 147.7(b), the statute does not require the holder of a certificate that is surrendered, suspended, or revoked to return it to the Administrator.

The FAA is implementing the requirements of Section 135(c)(3) in new § 147.7. Thus, § 147.7 states that an AMTS certificate or rating issued under part 147 is effective from the date of issue until the certificate or rating is surrendered, suspended, or revoked. Because the statute requires the FAA to establish interim final regulations in accordance with the requirements of Section 135, § 147.7 will no longer include a requirement for the return of an AMTS certificate that has been surrendered, suspended or revoked. However, the FAA notes that a school that does not return its certificate may not continue to operate simply because it has the physical paper certificate. A school whose certificate has been surrendered, suspended, or revoked may not advertise, hold out, or otherwise act as an AMTS.

3. Certificate Ratings (§ 147.11)

Section 135(c)(4) states that an AMTS certificate shall specify which of following ratings are held by the AMTS: (A) Airframe, (B) Powerplant, and/or (C) Airframe and Powerplant.

An AMTS certificate has always identified which rating or ratings the AMTS holds. Because the FAA is responsible for issuing the certificate, it follows that the FAA is responsible for specifying on the certificate which rating or ratings the AMTS is issued under part 147. By mandating what the AMTS certificate must specify, Section 135(c)(4) governs the conduct of the FAA rather than the regulated community. The FAA finds it necessary to codify the ratings that may be placed on a certificate in accordance with Section 135(c)(4); however, the FAA's regulations in part 147 apply to persons seeking AMTS certificates and to AMTS certificate holders. Therefore, in implementing Section 135(c)(4) in new § 147.11, the FAA is slightly revising the statutory language to allocate applicability to the regulated community instead of the FAA itself. Accordingly, new § 147.11 states which ratings may be issued under part 147, and that the FAA issues AMTS certificates that specify the rating or ratings held in compliance with the statute.

4. Operations Specifications (OpSpecs)

Section 135(c)(5) requires a certificated AMTS to operate in accordance with OpSpecs that include: (A) The certificate holder's name; (B) the certificate holder's air agency certificate number; (C) the name and contact information of the certificate holder's primary point of contact; (D) the physical address of the certificate holder's primary location; ²² (E) the physical address of any additional location of the certificate holder; ²³ (F) the ratings held; ²⁴ and (G) any regulatory exemption granted to the school by the Administrator.

²² Section 135(c)(5)(D) states “[t]he physical address of the certificate holder's primary location, as provided under paragraph (1)(A).” The reference to paragraph (1)(A) refers to the application requirements contained in Section 135(c)(1)(A)(i), which require the application to include a description of the facilities, including the physical address of the certificate holder's primary location for operation of the school. The FAA is implementing the requirements of Section 135(c)(1)(A)(i) in new § 147.5(b)(1).

²³ Section 135(c)(5)(E) states “[t]he physical address of any additional location of the certificate holder, as provided under subsection (d)(2).” The reference to subsection (d)(2) refers to Section 135(d)(2), which allows a certificated AMTS to provide training at any additional location that meets the requirements of the interim final rule and is listed in the school's OpSpecs. The FAA is implementing the requirements of Section 135(d)(2) in new § 147.15.

²⁴ Section 135(c)(5)(F) states “[t]he ratings held, as provided under paragraph (4).” The reference to paragraph (4) refers to Section 135(c)(4), which prescribes the ratings that may be held by an AMTS. The FAA is implementing the requirements of Section 135(c)(4) in new § 147.11.

To the extent Section 135(c)(5) requires a certificated AMTS to operate in accordance with OpSpecs, the FAA finds that this requirement is already covered by Section 135(b), which prohibits a person from operating an AMTS in violation of their OpSpecs. The requirements of Section 135(b) are implemented in new § 147.3.

To the extent Section 135(c)(5) contains a list of content that must be included in OpSpecs, the FAA finds that these requirements do not belong in the regulations because they govern the conduct of the FAA rather than the regulated community.²⁵ As a result, the FAA is not codifying these requirements in part 147.²⁶ To ensure FAA's compliance with these statutory requirements, the FAA will include guidance to its inspectors in FAA Order 8900.1.

²⁵ These requirements govern the conduct of the FAA by requiring the FAA to include certain content in the OpSpecs issued under part 147.

²⁶ The FAA notes that its decision not to codify the OpSpecs content requirements of Section 135(c)(5) is consistent with its decision not to codify the OpSpecs content requirements of Section 135(c)(1)(B) and (2)(B). See Section III.c.1. of this preamble, titled “Application Requirements.”

As a result of this interim final rule, the FAA has drafted new operations specification paragraph templates for AMTS, which reflect the new and/or changed requirements of part 147. Accordingly, all OpSpecs paragraphs issued to AMTS prior to this interim final rule, with the exception of A003, Ratings, will cease to be effective upon the effective date of the interim final rule. Because an AMTS may not operate without, or in violation of, AMTS OpSpecs, as stated in new § 147.3, each AMTS must ensure it has demonstrated compliance with the provisions required by this interim final rule by providing the applicable information to the AMTS's responsible Flight Standards office. For additional information on submitting this information, refer to Advisory Circular (AC) 147-3, Certification and Operation of Aviation Maintenance Technician Schools. After the FAA receives and reviews the requisite information, the FAA will issue the corresponding OpSpecs in order to allow the AMTS to operate under part 147.

d. Certification and Operating Requirements (Subpart B)

Section 135(d)(1) through (5) of the Act contain requirements that govern the operations of certificated AMTSs, including requirements for the facilities, equipment, and material provided by schools; training locations; curricula; instructors; and certificates of completion. The FAA is implementing those requirements in subpart B of part 147, which is titled “Certification and Operating Requirements.” The following sections reiterate the statutory requirements and explain how the FAA is implementing the requirements in new part 147.

1. Facilities, Equipment, and Material Requirements (§ 147.13)

Section 135(d)(1) states that each certificated AMTS shall provide and maintain the facilities, equipment, and materials that are appropriate to the one or more ratings held by the school and the number of students taught. This statutory requirement is similar to current § 147.13, which requires that schools provide facilities, equipment, and materials appropriate to their ratings. The statute, however, does not include the same specificity regarding facilities, equipment, and materials specified in current §§ 147.15 through 147.19.²⁷ Section 135(d)(1) retains the requirement from these sections that such facilities, equipment, and materials be appropriate to the number of students taught. The FAA is implementing the requirements of Section 135(d)(1) in new § 147.13(a). Thus, § 147.13(a) will state that each certificated AMTS must provide and maintain the facilities, equipment, and materials that are appropriate to the rating or ratings held by the school and the number of students taught.

²⁷ Current § 147.15 (Space requirements) specifies that facilities must be “appropriate for the maximum number of students expected to be taught at any time.” Current § 147.17 (Instructional equipment requirements) specifies schools must provide instructional equipment needed for students to complete practical projects, and maintain enough units to allow no more than eight students to work on a unit at once. Current § 147.19 (Materials, special tools, and shop equipment requirements) specifies that schools must maintain an adequate supply of materials, special tools, and shop equipment as appropriate to the school's curriculum, and “to assure that each student will be properly instructed.”

In developing the interim final rule, the FAA identified a potential unintended burden on an AMTS in the implementation of Section 135(d)(1) in new § 147.13(a) as it applies to additional training locations. As discussed in the next section, Section 135(d)(2) requires additional training locations to independently meet the requirements of part 147. The FAA recognizes that an AMTS may utilize additional training locations to teach all or part of its part 147 curriculum. If an AMTS utilizes additional fixed locations other than its primary location to provide part 147 training, the facilities, equipment, and materials used at that additional location need only be appropriate to the curriculum and number of students to be taught at that location.

To alleviate an unintended burden that would have resulted from additional locations independently meeting part 147, the FAA is adding § 147.13(b) to require that additional locations be appropriate only to the curriculum or portion of the curriculum, and the number of students being taught, at that location. By adopting this language in new § 147.13(b), the FAA alleviates an overly prescriptive burden on a school to outfit all additional training locations with facilities, equipment, and materials appropriate to the number of students to be taught and the ratings held, which would include the entirety of the school's curriculum. As a result, a school using additional training locations must identify the portion of its curriculum and number of students to be taught at each such location. Because the provision in new § 147.13(b) is merely a subset of the overarching requirement of § 147.13(a), the FAA finds that the requirement is consistent with the statute.

Pursuant to § 147.5, an AMTS must submit information demonstrating compliance with § 147.13 in its application. Section 147.5(b)(1) requires applicants to describe the facilities, including the physical address of the school's primary location for operation and any additional fixed training locations, and the equipment and materials to be used at each location. Section 147.5(b)(4) further requires that applicants submit information needed to determine compliance with each of the requirements of part 147, which includes § 147.13. As such, in addition to describing the facilities, equipment, and materials to be used at each location, an AMTS must demonstrate to the FAA that those facilities, equipment, and materials are appropriate to both the school's rating or ratings, and the number of students to be taught. If the AMTS uses additional training locations, the school must demonstrate that the facilities, equipment, and materials used at that location are appropriate to the curriculum, or portion of the curriculum, and number of students to be taught there. The FAA's process for determining the appropriateness of facilities, equipment, and materials to the ratings held and number of students to be taught will not change from the current regulation, in that the FAA will continue to assess appropriateness to ratings through the lens of the school's training program. That is, in determining the appropriateness of facilities, equipment, and materials for a given rating, the FAA will look to the curriculum that the school intends to use.²⁸

²⁸ To illustrate, if the curriculum includes a skill requirement that an applicant must perform on a specific piece of equipment, the school must have that piece of equipment (e.g., where a school's curriculum requires a student to be able to perform a skill requirement to service a battery, the school must have an aircraft battery in a condition that will allow a student to demonstrate the appropriate servicing requirements in order to be considered to have equipment appropriate to the rating).

2. Training Provided at Another Location (§ 147.15)

Section 135(d)(2) allows a certificated AMTS to provide training at any additional location that meets the requirements of the interim final regulations and is listed in the certificate holder's OpSpecs.

The FAA is implementing the requirements of Section 135(d)(2) in new § 147.15. This new regulation states that a certificated AMTS may provide training at any fixed location other than its primary location, provided the additional training location meets the requirements of part 147 and is listed in the certificate holder's OpSpecs. For clarity, the FAA is adopting rule language that slightly differs from the statutory language. Specifically, rather than stating that training may be provided at “any additional location,” new § 147.15 states that training may be provided at “any fixed location other than its primary location.” This change in terminology is intended to clarify what is meant by the term “additional location” in Section 135(d)(2). To ascertain the meaning of “additional location,” the FAA read Section 135(d)(2) in the context of Section 135(c)(1)(A)(i), which refers to the certificate holder's primary location for operation of the school and any additional fixed locations where training will be provided. Based on Section 135(c)(1)(A)(i), the FAA determined that “additional location” in Section 135(d)(2) refers to any fixed locations other than the primary location of the school.²⁹

²⁹ A distance learning system is considered an instructional delivery method intended to allow for flexible scheduling and varied location settings and, therefore, is not considered a fixed location other than the primary location of the school.

Additionally, the legislation states that an AMTS may provide training at any additional location that meets the requirements of the interim final regulations, required under Section 135(a)(1). The interim final regulations required under Section 135(a)(1) are implemented as part 147. Therefore, the FAA is implementing the legislation to require that the additional training location must meet the requirements in part 147. Consequently, schools should expect the FAA to verify that each location meets the requirements of part 147 prior to the FAA listing the location on the AMTS OpSpecs.

There is nothing in the statute that prohibits foreign training locations nor is the FAA aware of any other prohibition concerning the foreign location of part 147 schools.³⁰ Therefore, based on the broad statutory provision in Section 135(d)(2), the FAA finds additional training locations may be located outside the United States, provided the additional location meets the requirements of part 147 and is listed in the certificate holder's OpSpecs.³¹ For the same reasons, the FAA finds that certificated AMTSs may be located outside of the United States. The FAA is updating its guidance to reflect the allowance of foreign locations under part 147.³²

³⁰ The FAA notes that it also allows foreign satellites in parts 141 and part 142. Additionally, the FAA allows foreign training centers under part 142.

³¹ There are fees for certification services performed outside the United States. 14 CFR part 187. Appendix A to part 187 contains the methodology for computation of such fees. Advisory Circular 187-1 contains an updated schedule of charges for services of FAA Flight Standards Service aviation safety inspectors outside the United States.

³² It is noted that, under § 65.3, a person who is neither a U.S. citizen nor a resident alien may be issued a certificate under part 65, outside the U.S., only when the Administrator finds that the certificate is needed for the continued operation or continued airworthiness of a U.S.-registered aircraft. As such, graduation from a certificated AMTS alone will not guarantee eligibility for a part 65 mechanic certificate for a non-U.S. citizen or non-resident alien; the applicant must still meet § 65.3.

3. Training Requirements (§ 147.17 and 1 CFR Part 51)

Section 135(d)(3) requires each certificated AMTS to establish, maintain, and utilize a curriculum designed to continually align with mechanic airman certification standards as appropriate for the ratings held, provide training of a quality that meets the requirements of subsection (f)(1),³³ and ensure students have the knowledge and skills necessary to be eligible to test for a mechanic certificate and associated ratings under subpart D of part 65.

³³ Section 135(f)(1) establishes the minimum passage rate for a certificated AMTS, and is implemented in § 147.25.

The FAA is implementing Section 135(d)(3) in new § 147.17. Additionally, to effectuate the legislation, the FAA is making conforming amendments to part 65. The following sections discuss the training requirements set forth in the statute and the FAA's implementation of those requirements in more detail.

A. Incorporation by Reference (1 CFR Part 51)

Incorporation by reference is a mechanism that allows Federal agencies to comply with the requirements of the Administrative Procedure Act (APA) ³⁴ to publish rules in the Federal Register and the Code of Federal Regulations by referring to material published elsewhere.³⁵ Material that is incorporated by reference has the same legal status as if it were published in full in the Federal Register. Because 5 U.S.C. 552(a) requires the Director of the Federal Register to approve material to be incorporated by reference, incorporation by reference is governed by the Office of the Federal Register and as promulgated in its regulations: 1 CFR part 51. Specifically, 1 CFR part 51 provides certain requirements that a regulatory incorporation by reference must contain.

³⁴ The APA includes requirements for publishing notices and providing opportunities for public comment of proposed and final rules in the Federal Register. See 5 U.S.C. 553(b).

³⁵ 5 U.S.C. 552(A), which states, “except to the extent that a person has actual or timely notice of the terms thereof, a person may not in any manner be required to resort to, or be adversely affected by, a matter required to be published in the Federal Register and not so published. For the purpose of this paragraph, matter reasonably available to the class of persons affected thereby is deemed published in the Federal Register when incorporated by reference therein with the approval of the Director of the Federal Register.”

To receive a mechanic certificate or rating under subpart D of part 65, an applicant must pass a written, oral, and practical test.³⁶ Currently, the standards for the oral and practical tests are contained in the Mechanic Practical Test Standards (PTS).³⁷ The Mechanic PTS contains knowledge and skill subject areas that an applicant must demonstrate to pass the oral and practical test for a certificate or rating. Additionally, the questions on the written test align with the subject areas presented in the Mechanic PTS. Specifically, the Mechanic PTS contains subject areas, under which objectives define the general performance expectations of the elements within the subject areas. Currently, FAA inspectors and designated mechanic examiners (DMEs) conduct tests in accordance with the Mechanic PTS; however, the Mechanic PTS is not a regulatory standard for the written, oral, or practical tests.³⁸

³⁶ 14 CFR 65.71(a)(3), 65.75 and 65.79.

³⁷ As of the effective date of this interim final rule, the version of the PTS utilized is: Aviation Mechanic General, Airframe, and Powerplant Practical Test Standards; FAA-S-8081-26B; Nov. 1, 2021.

³⁸ See “Foreword,” Aviation Mechanic General, Airframe, and Powerplant Practical Test Standards; FAA-S-8081-26B; Nov. 1, 2021.

The FAA has initiated a process to transition from using the Mechanic PTS as the testing standard to obtain a mechanic certificate.³⁹ As a part of this process, the FAA developed the Mechanic Airman Certification Standards (ACS), which adds task-specific knowledge and risk management elements to the standards, resulting in a comprehensive presentation that integrates the standards for what an applicant must demonstrate to pass the written, oral, and practical tests for a certificate or rating, respectively. Specifically, the Mechanic ACS contains several high-level subjects that will be assessed on the FAA tests as appropriate to the rating sought.⁴⁰ For each subject, the ACS specifies the aeronautical knowledge, risk management, and skill standards that an FAA inspector or a DME may evaluate for mechanic certification.

³⁹ The FAA began to establish the ACS in 2011, in cooperation with an industry working group established under the Aviation Rulemaking Advisory Committee (ARAC). The goal in creating the ACS was to drive a systematic approach to the airmen certification process, including knowledge test question development and conduct of the practical test.

⁴⁰ As discussed herein, the FAA will continue to use the PTS as the testing standard under part 65 for a period of time after the effective date of this rule.

In accordance with 5 U.S.C. 552(a) and 1 CFR part 51,⁴¹ the FAA makes the Mechanic PTS and ACS reasonably available to interested parties by providing free online public access to view on the FAA Airman Certification Standards website at: www.faa.gov/training_testing/testing/acs. Additionally, the Mechanic PTS and Mechanic ACS are available for download, free of charge, at the provided web address. In addition to the free online material available on the FAA's website, hard copies and printable versions are available from the FAA.

⁴¹ Section 552(a) of title 5, United States Code, requires that matter incorporated by reference be “reasonably available” as a condition of its eligibility. Further, 1 CFR 51.5(b)(2) requires that agencies seeking to incorporate material by reference discuss in the preamble of the final rule, the ways that the material it incorporates by reference are reasonably available to interested parties, and how interested parties can obtain the material.

B. Curriculum Requirements (§ 147.17(a)(1) and (b))

Consistent with Section 135(d)(3)(A), § 147.17(a)(1) will require each certificated AMTS to establish, maintain, and utilize a curriculum designed to continually align with the mechanic airmen certification standards as appropriate to the ratings held. The phrase “mechanic airman certification standards” in Section 135(d)(3)(A) refers to the standards that an applicant for a mechanic certificate or rating must demonstrate for certification.

Prior to this interim final rule, as previously stated, the FAA had not taken the necessary steps to make the testing standards regulatory. Because the legislation requires an AMTS curriculum to align with the testing standards, an AMTS is incapable of complying with the implementing regulation in § 147.17(a)(1) without referring to the testing standards contained in the Mechanic ACS. Because the implementing regulation requires an AMTS to use the Mechanic ACS, which is not already published in the Code of Federal Regulations or another location that carries the full force and effect of the law, the FAA is incorporating the Mechanic ACS by reference. Therefore, consistent with the statute, § 147.17(a)(1) requires each certificated AMTS to establish, maintain, and utilize a curriculum ⁴² designed to continually align with the mechanic airmen certification standards as appropriate to the ratings held. The mechanic airman certification standards are contained in the Mechanic ACS, which is a document that exists outside the regulations; therefore, to effectuate the requirement, the FAA is incorporating it by reference as previously discussed. Section 147.17(b) contains the proper language of incorporation set forth by the Office of the Federal Register ⁴³ and includes document identification and location information, thereby enabling AMTS to comply with § 147.17(a)(1).

⁴² The FAA notes that Section 135(d)(3)(a), and the implementing regulation, states each certificated AMTS must establish, maintain, and utilize a curriculum; both “AMTS” and “curriculum” are stated in the singular. While an AMTS may have only one curriculum, it may have separate curriculum components (i.e., General, Airframe, Powerplant) for the ratings that the AMTS holds.

⁴³ See 1 CFR 51.9.

As previously discussed, the Mechanic ACS includes high-level subjects (e.g., Fundamentals of Electricity and Electronics, Aircraft Drawings), which are broken down into components that include knowledge, risk management, and skill elements relevant to that subject. The knowledge, risk management, and skill elements set forth the standards for certification. Because the statute requires a curriculum to align with the Mechanic ACS, the curriculum must align with the standards set forth under the high-level subjects. For example, a curriculum would not meet the statutory requirement in Section 135(d)(3)(A) if it aligned only with the subjects in the Mechanic ACS because the high-level subjects are not the certification standards.⁴⁴ Nor would a curriculum suffice if it did not align with the knowledge and skill elements contained in the Mechanic ACS, because those are the knowledge and skill standards that the FAA will evaluate in testing applicants for a mechanic certificate under part 65.

⁴⁴ If an AMTS only adopted the high-level subjects as their curriculum, the AMTS could have underlying course content items or projects that do not align with the Mechanic ACS, thereby resulting in violation of the statute.

While a curriculum must align with the high-level subjects and the standards set forth under those subjects, an AMTS need not duplicate the entire Mechanic ACS verbatim into its curriculum. Rather, the intent is to provide a more flexible, performance-based standard that enables an AMTS to develop a curriculum suited to the particular AMTS and that aligns with the Mechanic ACS. The FAA finds that an AMTS will be in compliance with § 147.17(a)(1) ⁴⁵ if the school designs its curriculum to include: (1) The high-level subjects that are listed in the Mechanic ACS; and (2) broader course content items, concepts, and practical projects under each high-level subject, which may encompass several of the more detailed knowledge, risk management, and skill elements listed in the Mechanic ACS. For example, one broad course content item in the curriculum may encompass several knowledge elements listed in the Mechanic ACS, while still aligning with the Mechanic ACS. The FAA notes that the requirement to align the curriculum with the Mechanic ACS will not preclude an AMTS from including additional course content beyond that provided in the Mechanic ACS.

⁴⁵ Section 147.17(a)(1) implements the statutory requirement in Section 135(d)(3)(A).

New § 147.17 replaces the curriculum requirements set forth in current § 147.21 (General curriculum requirements). New § 147.17 omits certain requirements in current § 147.21, including prescriptive requirements for curriculum hours and inclusion of subjects currently found in the appendices of part 147. Additionally, while the FAA will review curriculum as part of its oversight responsibilities, the FAA will no longer approve AMTS curriculum. For this reason, exemptions previously issued to provide relief from current § 147.21 will no longer be needed and will terminate upon the effective date of this interim final rule.⁴⁶

⁴⁶ E.g., Exemption No. 18892 (Docket No. FAA-2002-11395); Exemption No. 18766 (Docket No. FAA-2019-0165).

C. Conforming Amendments To Incorporate the Mechanic ACS by Reference (§§ 65.23, 65.75, and 65.79)

The FAA's implementation of new § 147.17 and incorporation by reference of the Mechanic ACS into part 147 necessitates conforming revisions to part 65. While part 147 addresses the training of mechanics through a certificated AMTS, subpart D of part 65 contains the eligibility requirements for all applicants seeking a mechanic certificate or rating, including the requirements to pass a written, oral, and practical test, respectively, within a period of 24 months.⁴⁷ That is, mechanic applicants who do not graduate from a certificated AMTS may test for a mechanic certificate by obtaining certain thresholds of practical experience rather than by graduating from a certificated AMTS.⁴⁸ The eligibility requirements and testing standards in subpart D of part 65 are applicable to students trained by an AMTS, as well as those who meet the practical experience requirements found in § 65.77(b).

⁴⁷ See §§ 65.71(a)(3), 65.75, and 65.79.

⁴⁸ See § 65.77.

The training of mechanics at an AMTS must therefore correspond to the testing standards required for certification under part 65, as evidenced by Section 135(d)(3)(C) of the Act, which requires an AMTS to ensure students have the knowledge and skills necessary to test for a mechanic certificate and associated ratings under part 65 and to align its curriculum with the Mechanic ACS. If the FAA did not require compliance with the Mechanic ACS in part 65, it would result in a disconnect between the training provided to AMTS students and the testing standards that an applicant must demonstrate on an FAA test for mechanic certification. This disconnect would adversely affect AMTS students if tested on knowledge and skill that the students were not trained on and would be inconsistent with Section 135(d)(3)(C). As evidenced from this statutory requirement, as well as the requirement for a curriculum to align with the mechanic airman certification standards (i.e., the testing standards), the FAA has concluded that Congress did not intend to create a discrepancy between the training a student receives from an AMTS and the testing standard that a student is evaluated on for mechanic certification. Accordingly, to effectuate the legislation, the FAA finds it necessary to incorporate the Mechanic ACS by reference into part 65.

However, as previously discussed, the FAA has not yet transitioned to the Mechanic ACS as the testing standard and currently uses the Mechanic PTS to test applicants for a mechanic certificate or rating in accordance with subpart D of part 65. Because the Mechanic ACS added knowledge and skill standards, the FAA recognizes that applicants who have been trained by an AMTS prior to this interim final rule may not have received training on certain aspects of aircraft maintenance included in the Mechanic ACS.⁴⁹ Should the FAA implement the Mechanic ACS as the testing standard upon the effective date of this interim final rule, students who have been trained by an AMTS under the contents of the current part 147, appendices B, C, and D, would be placed at an immediate disadvantage when testing. Therefore, in order to allow for each AMTS to train its students under the curriculum aligned with the Mechanic ACS, as required by new § 147.17(a)(1), the FAA is delaying the implementation of the Mechanic ACS as the testing standard in part 65. Further, the FAA finds that one year is a sufficient time frame for current AMTS students to gain the knowledge required to take a knowledge, practical, and oral test based on the Mechanic ACS standards.⁵⁰ Therefore, the FAA will use the Mechanic PTS as the testing standard until July 31, 2023. After July 31, 2023, the FAA will use the Mechanic ACS to conduct mechanic tests.

⁴⁹ For example, the Mechanic ACS adds the subject areas “Water and Waste” and “Rotorcraft Fundamentals,” which were not previously included in the PTS. Additionally, the subject area elements of the Mechanic ACS provide more specific aeronautical knowledge elements that include detailed knowledge, risk management, and skill elements within existing subject areas.

⁵⁰ Although there are variances in AMTS curriculum delivery timeframes, most AMTS structure their curriculum to provide students with the knowledge and skills needed to apply for a mechanic certificate, with at least a single rating, within one year.

To enforce both the Mechanic PTS and Mechanic ACS in part 65, the FAA must incorporate these standards by reference, as done for part 147, to ensure the testing standards are legally enforceable and consistent with the standards required by part 147. To require compliance with the testing standards set forth in the Mechanic PTS and Mechanic ACS, the FAA adds a new regulation to subpart A of part 65, designated as § 65.23, and amends the requirements in §§ 65.75 and 65.79, which require an applicant for a mechanic certificate or rating to pass a knowledge, oral and practical test, respectively. Rather than restate the language required by 5 U.S.C. 552(a) and 1 CFR 51.9(b) to incorporate a document by reference in multiple part 65 sections, the FAA has created a new centralized incorporation by reference section as § 65.23 that incorporates the Mechanic PTS and Mechanic ACS. Centralizing the incorporation of the Mechanic ACS and Mechanic PTS under one section will streamline the regulatory text and avoid repetitive information in the regulations. Subsequent part 65 sections that require compliance with these respective standards (i.e., §§ 65.75 and 65.79) refer to § 65.23 for identification information and the incorporation by reference language required by 1 CFR part 51.

Prior to this interim final rule, § 65.75 required the applicant to pass a written test that covered certain knowledge areas.⁵¹ However, the FAA and an industry working group developed the Mechanic ACS to contain knowledge elements that an applicant must know to pass the written test. Thus, the Mechanic ACS contains the intended testing standards for the written test. To make these knowledge testing standards mandatory, the FAA is revising § 65.75 by incorporating by reference the Mechanic ACS in the section. However, as previously discussed, an immediate effectivity of the Mechanic ACS as the testing standard would put students who have trained at an AMTS whose curriculum has not incorporated some Mechanic ACS subject areas at a disadvantage. Therefore, the FAA will test mechanic applicants using the Mechanic PTS. The FAA will not test part 65 applicants on the subject areas contained in the Mechanic ACS until AMTSs have had an opportunity to deliver their revised curriculum in accordance with new § 147.17 (i.e., aligned with the Mechanic ACS as appropriate for the ratings held).

⁵¹ Pursuant to § 65.75, an applicant for a mechanic certificate or rating must pass a written test appropriate to the rating sought after meeting the experience requirements of § 65.77. However, as explained in section III.e.4 of this preamble, titled “Early Testing,” the FAA is adding a new provision to § 65.75 to allow for early testing in accordance with the statutory requirement in Section 135(f)(4).

As such, the FAA is revising § 65.75(a) to require that each applicant for a mechanic certificate or rating must, after meeting the applicable experience requirements of § 65.77, pass a written test, appropriate to the rating sought, which includes the subject areas contained in the applicable Mechanic PTS, appropriate to the rating sought, until July 31, 2023. After July 31, 2023, new § 65.75(a) requires part 65 applicants, after meeting the applicable experience requirements of § 65.77, to pass a written test, appropriate to the rating sought, which includes the aeronautical knowledge subject areas contained in the Mechanic ACS, appropriate to the rating sought.

The FAA is retaining the requirement in § 65.75(b) that the applicant must pass each section of the test before applying for the oral and practical tests prescribed by § 65.79,⁵² and that a report of the written test is sent to the applicant. The FAA notes that consistent with Section 135(f)(4) of the statute, the FAA is adding a provision to § 65.75 to allow AMTS students to take the general written test prior to meeting the experience requirements of § 65.77 if they can provide an authenticated document from a certificated AMTS demonstrating satisfactory completion of the general portion of the school's curriculum. Section III.e.4. of this preamble, titled “Early Testing,” discusses § 65.75(c) in detail.

⁵² Section 65.80 provides an exception that permits a student to take the oral and practical tests prescribed by § 65.79 during the final subjects of the applicant's training in the curriculum before the student meets the applicable experience requirements of § 65.77 and before the student passes each section of the written test prescribed by § 65.75 when a certificated AMTS shows to an FAA inspector that the student has made satisfactory progress at the school and is prepared to take the oral and practical tests.

Similarly, the FAA is revising § 65.79, which contains the oral and practical test requirements for applicants seeking a mechanic certificate or rating, by incorporating by reference both the Mechanic PTS and the Mechanic ACS, respectively, in the section with the same effectivity dates as promulgated by § 65.75. Prior to this final rule, § 65.79 required each applicant to pass an oral test and a practical test appropriate to the rating sought. Section 65.79 required the tests to cover the applicant's basic skill in performing practical projects on the subjects covered by the written test for the rating sought. Additionally, § 65.79 required an applicant for a powerplant rating to show their ability to make satisfactory minor repairs to, and minor alternations of, propellers. To make the testing standards mandatory, the FAA is requiring in new § 65.79(a) that each applicant for a mechanic certificate or rating must pass an oral test and a practical test, as appropriate to the rating sought, by demonstrating the prescribed proficiency ⁵³ in the assigned objectives for the subject areas contained in the applicable Mechanic PTS until July 31, 2023. After July 31, 2023, new § 65.79(b) requires each applicant for a mechanic certificate or rating to pass an oral test and practical test, as appropriate to the rating sought, by demonstrating satisfactory understanding of the knowledge, risk management, and skill element for each subject contained in the Mechanic ACS.⁵⁴

⁵³ The Mechanic PTS prescribes performance levels for which an applicant must demonstrate proficiency in the assigned elements in each subject area for the oral and practical tests.

⁵⁴ The FAA notes that the oral and practical tests are administered using a representative sample of subject areas and their requisite elements; a single test may not include all of the subject areas and elements listed in the Mechanic PTS or Mechanic ACS.

D. Remaining Training Requirements (§ 147.17(a)(2) and (3))

The FAA is implementing the remaining training requirements of Section 135(d)(3)(B) and (C) in new § 147.17(a)(2) and (3). Section 147.17(a)(2) requires each AMTS to provide training of a quality that meets the requirements of § 147.25,⁵⁵ which contains the minimum passage rate requirements that a school must maintain. Section 147.17(a)(2) implements the statutory requirement of Section 135(d)(3)(B) without change. Section 147.17(a)(3) requires each AMTS to ensure that its students have the knowledge and skills necessary to be prepared to test for a mechanic certificate and associated ratings under subpart D of part 65.⁵⁶ Section 147.17(a)(3) implements the statutory requirement of Section 135(d)(3)(C) with one minor change in terminology for accuracy. As previously discussed, subpart D of part 65 contains the eligibility and certification requirements for persons seeking a mechanic certificate or rating. Part 65 does not require a student to have knowledge and skill “to be eligible” to test for a mechanic certificate or rating. Rather, §§ 65.75 and 65.79 require an applicant to pass a written, oral, and practical test by demonstrating certain knowledge and skills. It is, therefore, accurate to state that a student must have the knowledge and skills necessary “to be prepared” to test for a mechanic certificate and associated ratings under subpart D of part 65. Section 147.17(a)(3) contains this change in terminology for purposes of alignment with the requirements of part 65.

⁵⁵ Section 135(f)(3)(B) requires the training to meet the requirements of subsection (f)(1), which the FAA has implemented as § 147.25.

⁵⁶ The FAA notes that new § 147.5(b) requires an AMTS to provide a description of the manner in which the school's curriculum will ensure the student has the knowledge and skills required by new § 147.17(a)(3). In providing such description, the AMTS should include information such as the basis of the curriculum (e.g., credit hours, hours-based, competency based training), as well as the curriculum delivery methods (e.g., distance learning, in-person learning, virtual labs).

4. Instructor Requirements (§ 147.19)

Section 135(d)(4) states that each certificated AMTS shall (A) provide qualified instructors to teach in a manner that ensures positive educational outcomes are achieved; (B) ensure instructors hold a mechanic certificate with one or more appropriate ratings (or, with respect to instructors who are not certificated mechanics, ensure instructors are otherwise specifically qualified to teach their assigned content); and (C) ensure the student-to-instructor ratio does not exceed 25:1 for any shop class.

The statutory requirement preserves the requirement in current § 147.23 that instructors either hold a mechanic certificate or be otherwise specially qualified to teach certain curriculum content. The requirement also retains the student-to-instructor ratio prescribed for shop classes in current § 147.23 but removes the requirement that the one instructor in that ratio be FAA certificated. “Mechanic certificate” will continue to refer to an FAA mechanic certificate issued under part 65. The FAA interprets “specifically qualified” to mean an instructor is demonstrably qualified by reason other than an FAA mechanic certificate (e.g., education or relevant experience) to teach a certain portion of the school's curriculum.

The statute adds the requirement that qualified instructors teach in a manner that ensures achievement of positive educational outcomes. The FAA interprets positive educational outcomes to refer to the training standards set forth in Section 135(d)(3) (implemented in new § 147.17), which are geared toward ensuring the AMTS provides training of a quality that satisfies the pass rate requirement specified in § 147.25 and equips students with the knowledge and skills needed to be prepared to test for a mechanic certificate and associated ratings under part 65. This means that instructors qualified in accordance with Section 135(d)(4)(B) must teach in a manner that ensures achievement of the training requirements in new § 147.17(a)(2) and (3). That is, instructors must teach in a manner that ensures the AMTS provides training of a quality that meets the minimum pass rate requirement specified in § 147.25.⁵⁷ Additionally, instructors must teach in a manner that ensures students have the knowledge and skills necessary to be prepared to test for a mechanic certificate and associated ratings under subpart D of part 65.⁵⁸

⁵⁷ See § 147.17(a)(2).

⁵⁸ See § 147.17(a)(3).

The FAA is implementing the requirement of Section 135(d)(4) in new § 147.19 with one minor change. The FAA is dividing Section 135(d)(4)(B), which is implemented in new § 147.19(b), into two subsections that distinguish the requirements for instructors who hold a mechanic certificate versus instructors who are otherwise specifically qualified.

An AMTS must submit information demonstrating compliance with § 147.19 in its application. Section 147.5(b)(3) requires applicants to describe the manner in which the school will ensure it provides the necessary qualified instructors to meet the requirements of § 147.19. Section 147.5(b)(4) further requires that applicants submit information needed to determine compliance with each of the requirements of part 147, which includes § 147.19. As such, in addition to describing the manner in which the school will ensure it provides the instructors required by § 147.19, the school must submit information demonstrating compliance with the requirements to (a) provide qualified instructors to teach in a manner that ensures positive educational outcomes; (b) ensure instructors are either certificated mechanics or otherwise specifically qualified; and (c) ensure the student-to-instructor ratio does not exceed 25:1 for any shop class.

To demonstrate compliance with § 147.19(a), an AMTS must submit evidence that it is able to provide qualified instructors (as defined in § 147.19(b)) to ensure the achievement of the training requirements in § 147.17(a)(2) and (a)(3). An AMTS should be prepared to describe the manner by which the school will ensure that its instructors can provide training of a quality that meets the requirements of § 147.25 and equip students with the knowledge and skills necessary to be prepared to test for a mechanic certificate and associated ratings under subpart D of part 65.

To demonstrate compliance with § 147.19(b), an AMTS must submit information demonstrating that any certificated instructors hold FAA mechanic certificates and appropriate ratings. For any non-certificated instructors, the school must identify the portion of its curriculum to which the instructor will be assigned and submit information demonstrating that the instructor is specifically qualified to teach their assigned content.

5. Certificate of Completion (§ 147.21)

Section 135(d)(5), titled “Certificate of completion,” states that each certificated AMTS shall provide authenticated documentation to each graduating student, indicating the student's date of graduation and curriculum completed, as described in Section 135(d)(3)(A), which contains the training requirements for AMTSs.

The FAA is implementing the requirements of Section 135(d)(5) in new § 147.21 by stating that each certificated AMTS must provide an authenticated document to each graduating student, indicating the student's date of graduation and curriculum completed. Because the statute requires the FAA to establish interim final regulations in accordance with Section 135, new § 147.21 will not require an AMTS to provide an authenticated transcript of a student's grades to each student who is graduated from the school or who leaves it before graduating as current § 147.35 (Transcripts and graduation certificates) requires. The language in new § 147.21 mirrors the statute except for two minor changes.

First, the FAA finds it unnecessary to codify the statutory provision that states “the curriculum as described in Section 135(d)(3)(A).” As previously discussed, Section 135(d)(3)(A), which contains the curriculum requirements, is implemented in new § 147.17(a). It is apparent that the curriculum referenced in new § 147.21 refers to the curriculum required by § 147.17(a), as that is the only curriculum referenced in, and required by, new part 147. As such, the FAA is not adopting language that states “the curriculum as described in § 147.17(a).”

Second, the FAA is using the term “authenticated document” instead of “authenticated documentation.” Under the FAA's regulations, the purpose of issuing an authenticated document to a student who graduates from a certificated AMTS is to enable that student to demonstrate compliance with the experience requirements of § 65.77. The FAA finds that the term “authenticated document”, rather than “authenticated documentation,” accurately captures the documents intended to be presented under § 65.77. The FAA is concerned that the term “authenticated documentation” is vague and may be broadly interpreted to include numerous pages of extensive documentation. When a student presents a document to demonstrate compliance with § 65.77, that student presents the document to a knowledge testing center to show that the student is eligible to take the written test or tests. A knowledge testing center is a private company designated by the FAA to administer written airman knowledge tests, with FAA oversight to ensure compliance with FAA requirements. As a private company, a knowledge testing center is not the appropriate entity to review extensive documentation and make a determination about the student's eligibility under the regulations. Instead, the student must present a single document to the knowledge testing center that unambiguously demonstrates the student's eligibility to take the written tests. The term “authenticated document” is, therefore, more appropriate for an AMTS to provide to its graduates.

Furthermore, if the authenticated document is issued under § 147.21 for the purpose of demonstrating compliance with § 65.77, the FAA finds it necessary for the authenticated document to include the school's name and air agency certificate number to enable the knowledge testing center to identify the school as a certificated AMTS. Because schools may share the same name, an air agency certificate number is the only means for the FAA and knowledge testing centers to distinguish between AMTSs and to ensure the student graduated from a certificated AMTS.⁵⁹

⁵⁹ The FAA notes that an applicant must demonstrate that the applicant meets the experience requirements of § 65.77 in order to be eligible to take the written test. The experience requirements provide two avenues to demonstrate such have been met: (1) Graduation from a certificated AMTS, or (2) practical experience. It follows that if an applicant graduated from a non-certificated AMTS, the applicant must demonstrate the requisite practical experience in order to be eligible to take the written test. Therefore, the designation of whether an AMTS is certificated is vital for testing centers to determine how the applicant meets the experience requirements of § 65.77 prior to testing.

In order to ensure consistency in the regulations, the FAA finds the need to make two conforming amendments to § 65.77. For purposes of effectuating the legislation in harmony with part 65, the FAA is replacing the reference in § 65.77 of “a graduation certificate or certificate of completion” with “authenticated document.” Additionally, § 65.77 presents two alternatives in lieu of graduating from a certificated AMTS in order to meet the experience required in § 65.75 to take the written test, provided the applicant provides documentary evidence satisfactory to the Administrator of such. The FAA finds that it is necessary to reformat § 65.77 in order to communicate that an applicant for a mechanic certificate or rating may present either an authenticated document from an AMTS or documentary evidence of one of the two practical experience alternatives.

e. Quality Control System Requirements (§ 147.23)

Section 135(e) establishes new requirements for certificated AMTSs based on whether the AMTS is accredited by the Department of Education. The following sections reiterate the statutory requirements and explain how the FAA is implementing them in new part 147.

1. Quality Control System: Accreditation (§ 147.23(a))

Section 135(e)(1) states that an AMTS must be accredited as meeting the definition of an institution of higher education provided for in section 101 of the Higher Education Act of 1965 (20 U.S.C. 1001) or establish and maintain a quality control system that meets the requirements specified in Section 135(e)(2), FAA-approved quality control system, and is approved by the Administrator.

The FAA is implementing the requirements of Section 135(e)(1) in new § 147.23(a), with two minor revisions. First, the FAA adds the word “certificated” before “aviation maintenance technician school” to clarify the applicability of the requirements of § 147.23(a).

Second, the FAA revises the requirement to state that a school must “be accredited within the meaning of 20 U.S.C. 1001(a)(5).” Although the statute specified a school would need to be “accredited as meeting the definition of an institution of higher education,” this language incorrectly suggests that a school is accredited if it meets the Department of Education's definition of “institution of higher education.” To the contrary, accreditation is one of five criteria that a school must meet in order to be deemed an “institution of higher education” under 20 U.S.C. 1001(a). Schools become accredited by seeking recognition from one of the accrediting agencies governed by the Department of Education. Section 1001(a) requires that schools be “accredited by a nationally recognized accrediting agency or association.” Pursuant to Section 1001(c), the Secretary of Education publishes a list of all nationally recognized accrediting agencies or associations determined to be reliable authority as to the quality of the education or training offered. Given that the subsequent section, Section 135(e)(2), refers only to accreditation, and not the definition of “institution of higher education,” the FAA believes the statute intends to require that schools be “accredited,” as that term is used in 20 U.S.C. 1001(a)(5), rather than requiring schools to meet all five criteria of the Department of Education's definition, which would appear to well exceed the scope of part 147 certification.

For this reason, the FAA requires in § 147.23(a) that each certificated AMTS either (1) be accredited within the meaning of 20 U.S.C. 1001(a)(5)—meaning they are accredited by an accrediting agency or association recognized by the Department of Education pursuant to 20 U.S.C. 1001(c); or (2) establish and maintain a quality control system that meets the requirements in § 147.23(b).

The requirement to “maintain” the quality control system under § 147.23(a)(2) means that a school must continue to implement the procedures described in its quality control system after it is approved by the FAA. If the school makes changes to its FAA-approved quality control system, then the school must notify the FAA since the basis for the FAA's approval would have changed. The FAA will provide a means of compliance for a quality control system and outline procedures that have proven successful for AMTSs in the past in AC 147-3 (as revised). The means of compliance set forth in the AC are not the only means of satisfying § 147.23; schools may use alternative means of compliance.

The FAA notes that the Department of Education's recognition of accrediting agencies is limited by statute to accreditation activities within the United States.⁶⁰ To be accredited within the meaning of 20 U.S.C. 1001(a)(5), an AMTS must have its primary location within the United States. The FAA would consider an AMTS's accreditation to extend to any additional training locations, whether located within or outside the United States. An AMTS whose primary location is outside of the United States cannot satisfy § 147.23(a)(1) and must instead establish and maintain a quality control system pursuant to § 147.23(b).

⁶⁰ See 20 U.S.C. 1099b.

An AMTS must submit information demonstrating compliance with § 147.23(a) in its application. Section 147.5(b)(4) requires that applicants submit information needed to determine compliance with each of the requirements of part 147, which includes § 147.23. As such, an AMTS must either demonstrate that it is accredited within the meaning of 20 U.S.C. 1001(a)(5) or submit for FAA approval a quality control system that satisfies § 147.23(b). To demonstrate accreditation under § 147.23(a), a school should provide documentation that shows the school's current accreditation status and its accrediting agency.

2. Quality Control System: FAA-Approved System (§ 147.23(b))

As previously discussed, Section 135(e)(1)(B) requires a non-accredited AMTS to establish and maintain a quality control system that meets the requirements of Section 135(e)(2) and is approved by the Administrator. In the case of a non-accredited AMTS, Section 135(e)(2) requires the Administrator to approve a quality control system that provides procedures for record-keeping, assessment, issuing credit, issuing of final course grades, attendance, ensuring sufficient number of instructors, granting of graduation documentation, and corrective action for addressing deficiencies.

The FAA is implementing the requirements of Section 135(e)(2) in new § 147.23(b) with two minor changes. First, the statutory language in Section 135(e)(2) states that the FAA-approved system requirements apply in the case of an AMTS that is not accredited as set forth in paragraph (1), which is implemented as § 147.23(a). Because § 147.23(a) states that an AMTS must either be accredited within the meaning of 20 U.S.C. 1001(a)(5) or establish and maintain a quality control system, the FAA finds it repetitive to state that § 147.23(b) specifically applies to those AMTSs that are not accredited as set forth in § 147.23(a). Rather, the regulatory language has been simplified to state that the required procedures apply to the quality control system in § 147.23(a)(2).

Pertaining to the second minor change, the statutory provision requires the FAA to approve a quality control system that meets the requirements of the provision. Because the FAA's regulations apply to the regulated community rather than the FAA itself, the FAA is slightly revising the wording of Section 135(e)(2) to make it applicable to certificated AMTSs. Accordingly, new § 147.23(b) requires the quality control system specified in § 147.23(a)(2) to provide procedures for recordkeeping, assessment, issuing credit, issuing of final course grades, attendance, ensuring sufficient number of instructors, granting of graduation documentation, and corrective action for addressing deficiencies. As such, unless an AMTS is accredited within the meaning of 20 U.S.C. 1001(a)(5), the school will need to establish and maintain a quality control system that includes procedures for each of the items in § 147.23(b). Pursuant to § 147.23(a)(2), this quality control system must be approved by the Administrator.

In order to satisfy § 147.23(b), the quality control system submitted to the FAA for approval must clearly describe the school's procedures for each of the items listed in § 147.23(b). The FAA interprets “recordkeeping” to refer to procedures for producing and retaining records related to the AMTS's operation and students' completion of the school's curriculum. Similarly, the FAA interprets “assessment” to refer to procedures for evaluation of students' completion of the school's curriculum requirements. The FAA interprets procedures for “issuing credit” to refer to procedures describing how and when the school will credit a student with completion of the school's curriculum (or portions thereof), including if, when, and how the school will credit prior instruction or experience. Similarly, “attendance” procedures should describe how the AMTS will keep track of student attendance related to any school requirements for curriculum completion. Procedures for granting graduation documentation should describe the basis upon which the school will issue graduation documentation and the format of the documentation to be issued. These procedures should include documentation issued under § 147.31, early testing. Lastly, the FAA interprets “deficiencies” within the context of the statute to refer to deficiencies or defects within the school's quality control system, which may arise following FAA approval.

As previously stated, an AMTS must submit information demonstrating compliance with § 147.23 in its application pursuant to § 147.5(b)(4). As such, unless an AMTS submits information demonstrating that it is accredited in accordance with § 147.23(a)(1), the school must submit for FAA approval a quality control system that meets the requirements of § 147.23(b). Additionally, for those currently certificated AMTSs, Section 135 of the Act repeals and replaces current part 147 upon the effective date of the interim final rule; therefore, schools must ensure they are either accredited or have an FAA-approved quality control system in place and demonstrated to the FAA in order to comply with new part 147 and continue operations as a certificated AMTS. For additional information on submission of this information, refer to AC 147-3.

f. Additional Requirements (Subpart B)

Section 135(f)(1) through (4) contain additional requirements for certificated AMTSs, including a pass rate requirement to ensure schools provide quality training, an FAA inspection requirement, a requirement for schools to display their AMTS certificates, and a requirement allowing students to take the general written test required under part 65 early, provided certain conditions are met. Because those requirements pertain to the operations of certificated ATMSs, the FAA is implementing them in subpart B of part 147, “Certification and Operating Requirements.” The following sections specify the statutory requirements and discuss the FAA's implementation of those requirements in more detail.

1. Minimum Passage Rate (§ 147.25)

Section 135(f)(1) states that a certificated AMTS “shall maintain a pass rate of at least 70 percent of students who took a written, oral, or practical (or any combination thereof) FAA mechanic tests within 60 days of graduation for the most recent 3-year period.” Section 135(d)(3)(B), which contains the training requirements for AMTSs, requires each school to provide training of a quality that satisfies the minimum passage rate required by Section 135(f)(1). The training requirements are implemented in § 147.17 and discussed in section III.d.3. of this preamble, titled “Training Requirements.” This section discusses the implementation of the pass rate requirement in § 147.25.

In implementing Section 135(f)(1), the FAA encountered two ambiguous phrases in the statute that would have caused confusion in industry.⁶¹ The first ambiguous phrase is “within 60 days of graduation.” The FAA finds that a person could interpret this phrase several ways. It could mean that a school must determine its pass rate by using students who take a test (or combination of tests) within 60 days before graduation. Alternatively, it could mean that a school must determine its pass rate by using students who take a test (or combination of tests) within 60 days after graduation. Furthermore, a person could interpret “within 60 days of graduation” to mean that a school must determine its pass rate by using students who take a test (or combination of tests) within the 60 days before or the 60 days after graduation, thereby creating a 120-day window as opposed to a 60-day window.

⁶¹ “With regard to judicial review of an agency's construction of the statute which it administers, if Congress has not directly spoken to the precise question at issue, the question for the court is whether the agency's answer is based on a permissible construction of the statute.” Chevron U.S.A., Inc. v. Natural Resources Defense Council, Inc., 467 U.S. 837 (1984). The primary holding of the Chevron doctrine is that a government agency must conform to any clear legislative statements when interpreting and applying a law, but courts will give the agency deference in ambiguous situations as long as its interpretation is reasonable.

Currently, the FAA does not have a minimum passage rate requirement. However, in the FAA's supplemental notice of proposed rulemaking (SNPRM) for part 147, which was published on April 16, 2019,⁶² the FAA proposed to revise the quality of instruction requirements by replacing the national passing norms with a minimum passage rate requirement.⁶³ The FAA's proposed rule would have required each certificated AMTS to provide instruction of sufficient quality such that, in the prior 24 calendar months,⁶⁴ at least 70 percent of its graduates passed on the first attempt within 60 days of graduation each written test leading to a certificate or rating. Commenters asked the FAA to add oral and practical tests to the provision as well as a lookback period of 3 years rather than 24-calendar months.⁶⁵ Section 135(f)(1) includes the commenters' desired changes. Because Section 135(f)(1) appears to have stemmed from the FAA's proposed rule change in the SNPRM, the FAA is interpreting “within 60 days of graduation” consistent with the FAA's proposal. Accordingly, “within 60 days of graduation” means “60 days after graduation.” ⁶⁶ The FAA notes that the 60-day window excludes students who test beyond 60 days after graduation from the pass rate calculation. The FAA proposed the 60-day window in the SNPRM because knowledge acquired through an AMTS's curriculum may be perishable if not applied within a reasonable time after graduation.

⁶² SNPRM, Aviation Maintenance Technician Schools, 84 FR 15533, 15549 (Apr. 16, 2019).

⁶³ See proposed § 147.37 in the SNPRM, 84 FR at 15549.

⁶⁴ The proposed rule would have required schools to assess compliance on a quarterly basis.

⁶⁵ See FAA Rulemaking Docket No. FAA-2015-3901.

⁶⁶ As evidenced by the term “graduates” in the FAA's proposed rule, “within 60 days of graduation” meant “60 days after graduation.”

The second ambiguous phrase includes the list of tests that are used to determine the pass rate specified in the statute. Specifically, Section 135(f)(1) requires a pass rate of at least 70 percent of students who take “a written, oral, or practical (or any combination thereof) FAA mechanic tests” within 60 days of graduation. Part 65 contains the eligibility requirements for persons seeking an FAA mechanic certificate.⁶⁷ To be eligible for an FAA mechanic certificate issued under part 65, a person must pass all of the prescribed tests within a period of 24 months.⁶⁸ The prescribed tests for an FAA mechanic certificate include written tests,⁶⁹ oral tests, and practical tests.⁷⁰ Under the statute, for students who take one of these tests or any combination thereof within 60 days after graduation, the school must maintain a pass rate of at least 70 percent of students. The statute is unambiguous with respect to when a student takes only one test within 60 days after graduation and passes that test; the school may count that student towards the 70 percent pass rate. Furthermore, because the statute does not require the student to pass the test on the first attempt,⁷¹ the FAA finds that the statute is also unambiguous with respect to a student who passes a test on a subsequent attempt within the 60 days following graduation; the school may also count that student towards the 70 percent pass rate. It is unclear from the statute, however, how Congress intended the “any combination thereof” language to apply.

⁶⁷ See 14 CFR part 65, subpart D.

⁶⁸ 14 CFR 65.71(a)(3).

⁶⁹ Section 65.75 contains the knowledge requirements for a person seeking a mechanic certificate, including the requirement to pass the written test. The FAA notes that there are multiple FAA mechanic written tests. The FAA has a general written test, an airframe written test, and a power plant written test. The tests that an applicant must pass depend on the mechanic rating or ratings sought.

⁷⁰ Section 65.79 contains the skill requirements for a person seeking a mechanic certificate, including the requirement to pass an oral and practical test on the rating the person seeks.

⁷¹ See proposed § 147.37 in the SNPRM, 84 FR 15533 (proposing to require the student to pass on the first attempt in order to be counted towards the school's pass rate); see also § 141.5(d) (requiring a pass rate of 80 percent or higher “on the first attempt”); § 141.55(e)(2)(ii) (requiring at least 80 percent of students to pass the practical or knowledge test, as appropriate, “on the first attempt”); § 141.63(a)(5)(ii) (requiring at least 90 percent of students to pass the required practical or knowledge test, or any combination thereof, for the pilot, flight instructor, or ground instructor certificate or rating “on the first attempt”).

The phrase “any combination thereof” refers to a combination of the tests prescribed by part 65 (e.g., any combination of the written, oral, and practical tests). When a student takes a combination of tests, however, the FAA finds that the number of tests the student must pass to be counted towards the school's pass rate is subject to interpretation under Section 135(f)(1). A person could interpret Section 135(f)(1) to mean that a person who takes a combination of tests must pass all tests taken to be considered a passing student for purposes of determining the school's pass rate. Alternatively, a person could interpret Section 135(f)(1) to mean that a person who takes a combination of tests must pass only one test to be counted towards the school's pass rate.

To ascertain the meaning of the phrase “any combination thereof” in Section 135(f)(1), the FAA finds it necessary to read the phrase in the context of Section 135(f)(1) in its entirety. In addition, the FAA should construe statutory text so that no word or clause is rendered superfluous, void, or insignificant.⁷² Section 135(f)(1) expressly requires schools to maintain a pass rate of at least 70 percent of students ⁷³ who take one of the tests specified in paragraph (f)(1) or any combination of those tests. In other words, 70 percent of students who take one of the tests or any combination thereof must pass. Therefore, if a student takes a combination of tests within the 60 days following graduation, the FAA interprets the statute to mean the student must pass all tests taken to be counted as a passing student towards the school's pass rate. The FAA finds that this is the most reasonable interpretation when read in the context of the 70 percent pass rate because a student who passes one test but fails another would not be a “passing” student based on the totality of the student's test results. Additionally, the FAA's interpretation of Section 135(f)(1) gives meaning to the phrase “any combination thereof.”

⁷² “It is a fundamental canon of statutory construction that the words of a statute must be read in their context and with a view to their place in the overall statutory scheme.” Davis v. Michigan Dept. of Treasury, 489 U.S. 803, 809 (1989). “A statute should be construed so that effect is given to all its provisions, so that no part will be inoperative or superfluous, void or insignificant. . . .'” Hibbs v. Winn, 542 U.S. 88, 101 (2004) (quoting 2A N. Singer, Statutes and Statutory Construction section 46.06, pp. 181-186 (rev. 6th ed. 2000)). Likewise, all parts, provisions, and sections of title 14 of the CFR must be read together in order to best ascertain and give effect to their meaning.

⁷³ The FAA notes that the legislation specifically ties the “pass rate of at least 70 percent” to “of students” in Section 135(f)(1). The FAA construes this to be an intentional link to students; if the intent was to base the 70 percent pass rate on individual tests, the legislation would have expressly stated “of tests,” instead of “of students,”.

If the FAA were to interpret Section 135(f)(1) to the contrary—to mean that a student who takes a combination of tests is required to pass only one test to be considered a passing student—the phrase “any combination thereof” would be rendered superfluous. For example, before a student may take an oral or practical test, the student must pass the written test (except if testing under § 65.80, as previously discussed).⁷⁴ If a student passes the written test but subsequently fails the oral and practical tests within the 60 days following graduation, the school would count the student as a passing student under this interpretation. Additionally, if a student passes the written test and subsequently passes the oral and practical tests within the 60-day window, the school would count the student as a passing student. As these examples illustrate, the only test that would matter under this interpretation would be the first test taken (e.g., the written test under the examples).⁷⁵ Therefore, interpreting Section 135(f)(1) to mean that a student who takes any combination of tests is required to pass only one of the tests (e.g., the written test) to be counted towards the school's pass rate would render the phrase “any combination thereof” meaningless.

⁷⁴ See § 65.75(b).

⁷⁵ The FAA recognizes that a student may take the general written test prior to graduation. In this case, the student would typically take the oral and practical tests within the 60 days following graduation. A student may not proceed to oral or practical testing until the student passes the required written test(s) (except when testing under § 65.80). If a student passes the oral test but subsequently fails the practical test, that student would be considered a passing student under the alternative interpretation. Additionally, if a student passes the oral test and subsequently passes the practical test, the student would be considered a passing student. These examples further illustrate how the phrase “any combination thereof” would be rendered meaningless under the alternate interpretation.

Accordingly, the FAA is adopting rule language in § 147.25 that implements Section 135(f)(1) consistent with the FAA's aforementioned interpretation of the statutory provision. To facilitate readability and minimize confusion, the FAA is implementing Section 135(f)(1) by adopting three paragraphs in § 147.25.⁷⁶ Section 147.25(a) requires each certificated AMTS to maintain the pass rate specified in § 147.25(b) for the most recent 3-year period.

⁷⁶ The organization and wording of § 147.25 is intended to minimize confusion and preclude the need for legal interpretations following the publication of this interim final rule. The FAA notes that part 141 contains similar requirements pertaining to pass rates. These requirements have resulted in numerous requests for legal interpretation.

Section 147.25(b) contains the pass rate required by the statute. For students who take an FAA mechanic test under part 65 within 60 days after graduation, at least 70 percent of students must pass the test (or any combination thereof). These tests are listed in § 147.25(b)(1) through (3).

Lastly, to minimize confusion, the FAA is adopting § 147.25(c) to make clear that a student who takes a combination of tests within the 60 days following graduation must pass each test taken within the 60-day window to be considered a passing student for purposes of determining the school's pass rate. For example, if the student passes the written test(s) and oral test but subsequently fails the practical test within the 60 days following graduation, the school must count the failure on the practical test as a student failure for purposes of determining the pass rate.⁷⁷ Table 1 contains a hypothetical in an effort to provide clarity with respect to applying new § 147.25.

⁷⁷ As previously explained, however, a student is not required to pass the test on the first attempt. Therefore, if the student passed the practical test on a subsequent attempt within the 60-day window specified in § 147.25(b), that student would be considered a passing student for purposes of determining the pass rate.

⁷⁸ Pursuant to Section 135(f)(1) of the Act, students who take tests after the 60-day window specified in § 147.25(b) may not be counted towards the school's pass rate.

Table 1—Hypothetical To Determine School's Pass Rate in Accordance With § 147.25
| Written test * | Oral test | Practical test
Student 1 | Failed first attempt. Passed second attempt | Passed first attempt | Passed first attempt.
Student 2 | Passed first attempt | Failed first and only attempt | Failed first and only attempt.
Student 3 | Passed first attempt | Passed first attempt | Passed first attempt.
Student 4 | Failed first attempt. Passed second attempt | Failed first and only attempt | Failed first and only attempt.
Student 5 | Passed first attempt | Passed first attempt | Passed first attempt.
Student 6 | Passed first attempt | Passed first attempt | Passed first attempt.
Student 7 | Passed first attempt | Passed first attempt | Passed first attempt.
Student 8 | Passed first attempt | Passed first attempt | N/A.**
Student 9 | Passed first attempt | N/A ** | N/A.**
Student 10 | Failed first attempt. Failed second attempt | N/A ** | N/A.**
* For simplicity the table refers to a single written test. However the number of written tests that a mechanic applicant must take depend on the rating sought and whether it is an initial mechanic applicant or an application for an additional rating.
** For purposes of Table 1, N/A means the student did not take the test within the 60 days following graduation.⁷⁸

In Table 1, the AMTS has 10 students who took one or more FAA mechanic tests within the 60 days following graduation. For the school to meet the pass rate, 70 percent of these students must have passed. The AMTS would count the following students as passing students for purposes of determining the pass rate: Students 1, 3, 5, 6, 7, 8 and 9. The school must count Students 2 and 4 as student failures because the students took a combination of tests and failed two of the three tests (e.g., the oral and practical tests). The school must also count Student 10 as a student failure because the student failed both attempts at the written test. Despite the student failures, the school had 7 out of 10 students pass the tests taken within the 60-day window. As such, the school met the 70 percent pass rate.⁷⁹

⁷⁹ The FAA notes that while an AMTS is required to meet the pass rate in § 147.25, an AMTS is also generally required to ensure students have the knowledge and skills necessary to be prepared to test for a mechanic certificate and associated ratings, pursuant to § 147.17(a)(3). As part of the FAA's general inspection authority in § 147.27, the FAA may review an AMTS's pass rate data as a whole, not only as it pertains to those students who test 60 days after graduation, to ensure that students are prepared with the knowledge and skill to test for the applicable certificate and/or rating.

The FAA will collect pass/fail data on written, oral, and practical tests taken by graduates of an AMTS. The FAA's data will control for purposes of determining whether a certificated AMTS meets the minimum pass rate requirement in new § 147.25. The FAA notes that it currently does not collect pass/fail data on the oral and practical tests taken by AMTS graduates. The FAA will begin collecting this data when new part 147 goes into effect. However, because of the 3-year lookback period in the statute and the absence of current data, the FAA will not be able to determine compliance with § 147.25 for at least 3 years. Similarly, the 3-year lookback period will affect any newly certificated AMTSs on and after the effective date of the final rule because a new school will not have pass rate data for the most recent 3-year period. The FAA's inability to determine compliance with § 147.25 for a period of time does not mean that quality of instruction will be ignored. Rather, the FAA will issue reports containing the pass/fail data, which will allow the FAA and certificated AMTSs to monitor their pass rates and assess their quality of instruction. However, current schools (for the first three years following the effective date of the interim final rule) and newly certificated schools will not be in violation of § 147.25, even with a pass rate lower than 70 percent, because the pass rate would not be based on the 3-year period of data.

Table 2 shows which FAA written tests an AMTS student may take based on the curriculum the student completed. Table 3 illustrates the different components of the oral and practical tests that are administered to an applicant seeking a mechanic certificate and/or rating under part 65. The FAA notes that, for students graduating from a certificated AMTS, the results of these tests, within the 60-day timeframe, will be used to determine whether the school meets the minimum pass rate.

Table 2—Written Tests
If the written test applicant is an AMTS student with an appropriate document,: Evidencing completion of the following curriculum: | If the written test applicant is an AMTS student with an appropriate document,: Then the applicant is eligible to attempt the following FAA written test(s):
Airframe | general, airframe.
Powerplant | general, powerplant.
Airframe, Powerplant | general, airframe, powerplant.
General curriculum content | general.

Table 3—Oral and Practical Tests
The mechanic oral and practical test will consist of the following elements:: If the rating(s) being requested is(are): | The mechanic oral and practical test will consist of the following elements:: An original mechanic certificate and rating is being requested: | The mechanic oral and practical test will consist of the following elements:: An added rating to an existing mechanic certificate is requested:
Airframe | Oral—general, airframe Practical—general, airframe | Oral—airframe. Practical—airframe.
Powerplant | Oral—general, powerplant Practical—general, powerplant | Oral—powerplant. Practical—powerplant.
Airframe, Powerplant | Oral—general, airframe, powerplant Practical—general, airframe, powerplant | N/A.

2. FAA Inspection (§ 147.27)

Section 135(f)(2) states that a certificated AMTS shall allow the Administrator such access as the Administrator determines necessary to inspect the 1 or more locations of the school for purposes of determining: (1) The school's compliance with the interim final regulations required under Section 135(a)(1); (2) the procedures and information outlined in the school's OpSpecs according to Section 135(c)(5); and (3) the AMTS certificate issued for the school. The FAA believes that the latter two areas of compliance are inherently incorporated into the first enumerated area of compliance, which assesses compliance with the requirements of part 147. An AMTS's OpSpecs and the school's certificate are issued under the requirements of part 147. Therefore, the ability to inspect an AMTS to determine its compliance with part 147 includes inspecting its compliance with its OpSpecs and its certificate.

The statutory requirement is largely consistent with current § 147.43, which allows the Administrator to inspect an AMTS at any time to determine its compliance with part 147. The FAA is implementing this requirement in new § 147.27. As a result of Section 135(a)(2), which repeals the current regulations in part 147, the FAA notes that current § 147.43 is repealed upon the effective date of this interim final rule. Therefore, the language found in current § 147.43 that a school will be notified, in writing, of any deficiencies found during the inspection is repealed. However, AMTSs will continue to receive written notifications of negative findings after inspections pursuant to the FAA's guidance to inspectors found in FAA Order 8900.1.

3. Display of Certificate (§ 147.29)

Section 135(f)(3) requires a certificated AMTS to display its AMTS certificate at a location in the school that is visible by and normally accessible to the public. The FAA finds that the term “school” in Section 135(f)(3) is ambiguous in light of the statutory provision that allows a certificated AMTS to provide training at additional fixed locations.⁸⁰ For example, Section 135(f)(3) could be interpreted to mean that the part 147 certificate must be displayed only at the primary location of the school. Alternatively, Section 135(f)(3) could be interpreted to mean that the part 147 certificate must be displayed at the primary location and any additional fixed locations of the school. To ascertain the meaning of the term “school” in Section 135(f)(3), the FAA finds it necessary to read Section 135(f)(3) in the context of the statute in its entirety.⁸¹ Section 135(d)(2) states that a certificated AMTS may provide training at any additional location that meets the interim final regulations, which are required under Section 135(a)(1), and is listed in the certificate holder's OpSpecs. Additionally, Section 135(c)(1)(A)(i) contains an application requirement that applies to any additional fixed locations where training will be provided. As a result, a “school” may have a primary location and additional fixed locations. When read in the context of Section 135 in its entirety, the FAA finds it reasonable to interpret the broad term “school” in Section 135(f)(3) as including each location of the school (i.e., primary location and additional fixed locations). Furthermore, the statute uses the term “primary location” throughout the legislation,⁸² but does not use the term in Section 135(f)(3). Instead, Section 135(f)(3) states that the certificate must be displayed “at a location in the school.” This meaningful variation in terminology further supports the FAA's interpretation that the term “school” in Section 135(f)(3) means primary location and any additional fixed locations of the school.⁸³

⁸⁰ See Section 135(d)(2).

⁸¹ K Mart Corp. v. Cartier, Inc., 486 U.S. 281, 291 (1988) (“In determining whether a challenged regulation is consistent with the statute it implements, courts must ascertain the statute's plain meaning by looking to the particular language at issue and the language and design of the statute as a whole.”).

⁸² See Section 135(c)(1)(A)(i) and Section 135(c)(5)(D).

⁸³ Russello v. United States, 464 U.S. 16, 23 (1983) (“[Where] Congress includes particular language in one section of a statute but omits it in another section of the same Act, it is generally presumed that Congress acts intentionally and purposely in the disparate inclusion or exclusion.”) (quoting United States v. Wong Kim Bo, 472 F. 2d 720, 722 (5th Cir. 1972)).

For these reasons, the FAA interprets Section 135(f)(3) to mean that a certificated AMTS must display its certificate at a place in each location of the school, including the primary location and any additional fixed locations, that is visible by and normally accessible to the public. The FAA is implementing this requirement in new § 147.29. The AMTS may display a copy of the Air Agency certificate at any location. The FAA notes that it is using the term “place” in the regulation rather than “location” to avoid confusion because the statute (and thus, the implementing regulations) already use the term “location” with respect to “primary location” and “additional fixed locations.” ⁸⁴

⁸⁴ For example, it would be confusing to require the certificated AMTS to display its part 147 certificate at a “location in each location” of the school (e.g. the primary location and additional fixed location).

4. Early Testing (§ 147.31)

Section 135(f)(4) states that a certificated AMTS “may issue authenticated documentation demonstrating a student's satisfactory progress, completion of corresponding portions of the curriculum, and preparedness to take the aviation mechanic written general knowledge test, even if the student has not met the experience requirements of [§ ] 65.77 of [14 CFR].” Section 135(f)(4) requires any such documentation to specify the curriculum the student completed and the completion date.

The FAA is implementing Section 135(f)(4) in part 147 by adding new § 147.31, which allows a school to issue an authenticated document to a student when that student satisfactorily completes the general portion of a school's curriculum. The authenticated document will demonstrate the student's preparedness to take the aviation mechanic general written test prior to meeting the experience requirements specified in § 65.77. To facilitate readability and ensure effective implementation of Section 135(f)(4), the FAA is codifying rule language in § 147.31 that slightly differs from the statutory language of Section 135(f)(4). Despite the different phrasing and terminology, however, the FAA emphasizes that the provisions share the same meaning and achieve the same objective. The differences are discussed in detail herein.

Section 135(f)(4) uses the term “aviation mechanic written general knowledge test.” The FAA finds, however, that using the terms “written” and “knowledge” when referring to the aviation mechanic general written test would be unnecessary and inconsistent with FAA regulations.⁸⁵ Subpart D of part 65, which contains the eligibility requirements for an applicant seeking a mechanic certificate, uses the term “written test.” Because subpart D of part 65 applies to AMTS students seeking to obtain a mechanic certificate, the FAA has decided to use the term “written test” in § 147.31 to ensure consistency between the parts.

⁸⁵ The FAA's regulations in title 14 CFR use “written test” and “knowledge test” but do not combine the terms to state “written knowledge test.” See 14 CFR parts 61, 63, and 65.

Section 135(f)(4) allows an AMTS to issue authenticated documentation demonstrating “a student's satisfactory progress, completion of corresponding portions of the curriculum, and preparedness to take the aviation mechanic written general knowledge test.” The student's satisfactory progress and preparedness to take the aviation mechanic general written test is based wholly on whether the student satisfactorily completed the corresponding portion of the curriculum. The portion of the curriculum that directly corresponds to the student's preparedness to take the aviation mechanic general written test is the portion of the curriculum that contains the general curriculum subjects. After reviewing the statutory provision, the FAA determined that Section 135(f)(4) appears to contain unnecessary and redundant phraseology. To reduce confusion and facilitate comprehension, the FAA is codifying the statutory requirement in a more concise and simplistic manner.

New § 147.31 will allow a certificated AMTS to issue an authenticated document to a student when that student satisfactorily completes the general portion of a school's curriculum. The authenticated document will demonstrate the student's preparedness to take the aviation mechanic general written test prior to meeting the experience requirements of § 65.77. Specifically, the authenticated document will demonstrate that the student is prepared to take the aviation mechanic general written test by showing that the student satisfactorily completed the general portion of the curriculum.

For the reasons discussed herein, the FAA is making a conforming amendment to § 65.75 to effectuate the statutory requirement. Because of the conforming amendment, the FAA is adopting a cross-reference to § 65.75 to simplify the rule language in § 147.31 and avoid redundancy in the regulations. Additionally, the FAA explains why the regulatory text uses “authenticated document” rather than “authenticated documentation” in this section.

Section 135(f)(4) also requires the authenticated documentation to specify the curriculum the student completed and the completion date. As evident by the first sentence in Section 135(f)(4), a student is not required to complete an entire curriculum—i.e., either an airframe curriculum, a powerplant curriculum, or an airframe and powerplant curriculum—in order to demonstrate eligibility to take the aviation mechanic general written test early. Rather, the student must satisfactorily complete the general portion of that curriculum. Therefore, requiring the authenticated documentation to specify the curriculum completed is inconsistent with the first sentence in Section 135(f)(4). Requiring the student to complete an entire curriculum would also frustrate the implementation of Section 135(f)(4) in the AMTS industry because not all schools administer a general curriculum independent from the airframe or powerplant curriculum.⁸⁶ In some cases, a school may administer the general curriculum subjects as part of the airframe or powerplant curriculum.

⁸⁶ For example, a school with an Airframe and Powerplant rating may have a single curriculum that teaches general, airframe, and powerplant content. A student who only completes the general curriculum content of that curriculum could be issued an authenticated document by the AMTS indicating the student is eligible to test for the aviation mechanic general written test, prior to meeting the experience requirements of § 65.77 (i.e., graduating from a curriculum consistent with the AMTS ratings).

To achieve the intent of Section 135(f)(4), the FAA finds it necessary to adopt rule language that is consistent with the first sentence of Section 135(f)(4). Accordingly, the regulations will require an authenticated document to show that the student has satisfactorily completed the general portion of the curriculum and the completion date. The FAA is codifying this requirement in new § 65.75(c), which is subsequently discussed, rather than § 147.31, because subpart D of part 65 contains the eligibility requirements for a person seeking a mechanic certificate and the FAA considers the authenticated document necessary to take the written test early to be an eligibility requirement for taking that written test.

Furthermore, upon review of Section 135(f)(4), the FAA determined that an amendment to § 65.75(a) is necessary to achieve the intent of the legislation. Part 147 prescribes the requirements for issuing AMTS certificates and associated ratings, and the operating rules for those certificate holders.⁸⁷ The students of an AMTS, however, must comply with subpart D of part 65, which prescribes the requirements for issuing mechanic certificates and associated ratings. Currently, § 65.75(a) requires each applicant for a mechanic certificate or rating to meet the applicable experience requirements of § 65.77 prior to passing a written test. Students of an AMTS are, therefore, required to satisfy the experience requirements of § 65.77 before they may take the aviation mechanic general written test. Numerous schools have obtained exemptions from § 65.75(a) to enable their students to take the aviation mechanic general written test immediately following the students' successful completion of the general curriculum subjects.⁸⁸ Section 135(f)(4) is intended to allow students who have successfully completed the general portion of the curriculum to take the aviation mechanic general written test even if the student has not met the applicable experience requirements of § 65.77. Thus, the legislation is intended to eliminate the need for schools to obtain exemptions from § 65.75(a) to enable early testing.

⁸⁷ See § 147.1.

⁸⁸ Approximately 35 percent of AMTSs currently hold an exemption from § 65.75(a) (e.g., Exemption No. 17174B, Docket No. FAA-2016-8933; Exemption No. 18647, Docket No. FAA-2020-0932; Exemption No. 18701, Docket No. FAA-2016-9045; Exemption No. 18055A, Docket No. FAA-2018-0937; Exemption No. 18664, Docket No. FAA-2016-0136).

Upon review of the exemptions from § 65.75(a), however, the FAA recognizes that it cannot achieve the intent of the legislation by amending only part 147. If not amended, students would continue to be required by § 65.75(a) to meet the applicable experience requirements of § 65.77 prior to taking the aviation mechanic general written test. Thus, the new requirement in § 147.31 would create an inconsistency with § 65.75(a) rather than eliminating the need for exemptions from § 65.75(a).

Accordingly, to achieve the intent of the legislation, the FAA finds it necessary to make a conforming amendment to § 65.75. The FAA is adding an exception to the requirement in § 65.75(a) that will allow an applicant for a mechanic certificate or rating to take the general written test prior to meeting the experience requirements of § 65.77, provided the applicant presents an authenticated document from a certificated AMTS that demonstrates satisfactory completion of the general portion of the curriculum. This exception is contained in new § 65.75(c). As a result, the new § 65.75(c) will eliminate the need for exemptions from § 65.75(a), and exemptions from this regulation will terminate upon the effective date of this interim final rule.

The FAA creates the mechanic written tests that are required under part 65. These written tests, however, are administered to applicants by knowledge testing centers. A knowledge testing center is a private company designated by the FAA to administer written airman knowledge tests, with FAA oversight to ensure compliance with FAA requirements.

The FAA recognizes that Section 135(f)(4) allows a school to issue “authenticated documentation” that demonstrates a student's eligibility to take a general written test prior to meeting the experience requirements of § 65.77. For the same reasons discussed in section III.d.5., the FAA finds it necessary to use the term “authenticated document” rather than “authenticated documentation.” By using the term “authenticated document,” the FAA emphasizes the need for schools to issue a single document that effectively demonstrates the student's eligibility to take the written test early, without additional FAA involvement.⁸⁹ The term “authenticated document” will achieve the intent of the legislation by allowing schools to determine what type of document they wish to issue rather than mandating a particular document, such as “certificate of completion.”

⁸⁹ If a school issued numerous pages of extensive documentation in an effort to demonstrate a student's eligibility to take a written test, the FAA would have to review that documentation and determine whether the student was in fact eligible in accordance with the FAA's regulations.

The purpose of an authenticated document under new § 147.31 is to provide proof that the student has, in fact, satisfactorily completed the general portion of the certificated AMTS's curriculum and is prepared to take the general written test early in accordance with new § 65.75(c). As a result, the FAA finds it necessary for the authenticated document to include the school's name and air agency certificate number to enable the knowledge testing center to identify the school as a certificated AMTS. A school's name is insufficient alone because schools may share the same name. Thus, the air agency certificate number is the only means for the FAA and the knowledge testing center to clearly distinguish between AMTSs and to ensure the student completed the general portion of the curriculum at a certificated AMTS.

g. Conforming Amendments

Upon implementing the statutory requirements of Section 135 into new part 147, the FAA recognized that the new requirements would have created inconsistencies in two provisions that exist outside part 147, namely appendix A to part 43 and § 65.80. As a result, the FAA finds it necessary to make conforming amendments to those provisions. The following sections explain the conforming amendments in detail.

1. Appendix A to Part 43

Current § 147.21(e) contains the requirements governing the approval of special inspection and preventive maintenance courses for primary category aircraft type certificated under § 21.24.⁹⁰ Section 135(a)(1) requires the FAA to issue interim final regulations in accordance with the requirements of Section 135. Additionally, Section 135(a)(2) repeals all current regulations upon the effective date of the interim final rule. Because Section 135 of the statute does not contain a provision governing the approval of special inspection and preventive maintenance courses for primary category aircraft type certificated under § 21.24, the FAA is not issuing an interim final regulation governing such courses. Additionally, current § 147.21(e) is repealed on the effective date of this interim final rule.

⁹⁰ Section 147.21(e) was added in the 1992 final rule that adopted regulations for primary category aircraft. See Primary Category; 57 FR 41360 (Sept. 9, 1992).

Appendix A to part 43, which describes the circumstances under which an owner of a primary category aircraft may complete the preventive maintenance tasks specified in appendix A, contains a cross-reference to § 147.21(e). Because § 147.21(e) is repealed upon the effective date of this interim final rule, the FAA is making a conforming amendment to appendix A of part 43, paragraph (c)(30)(i), by removing the reference to certificates of competency for the affected aircraft “issued by a school approved under § 147.21(e) of this chapter.” Therefore, appendix A of part 43, paragraph (c)(30)(i) will refer only to certificates of competency that are issued by (1) the holder of the production certificate for that primary category aircraft that has a special training program approved under § 21.24 or (2) another entity that has a course approved by the Administrator. As a result, an AMTS that requests an approval, or an AMTS that currently holds an approval originally issued under § 147.21(e), of special courses in the performance of special inspection and preventive maintenance programs for a primary category aircraft, may issue a certificate of competency as “another entity that has a course approved by the Administrator” in accordance with new paragraph (c)(30)(i)(2).

2. Section 65.80

Section 65.80 allows AMTS students to take the oral and practical tests prescribed by § 65.79 before meeting the applicable experience requirements of § 65.77, and before the student passes each section of the written test prescribed by § 65.75. The school must show an FAA inspector the student has made satisfactory progress at the school and is prepared to take the oral and practical tests. Additionally, § 65.75 states the student may take the tests prescribed by § 65.79 during the final subjects of the student's training in the approved curriculum. The reference to “approved curriculum” in § 65.80 refers to a certificated AMTS's approved curriculum, which was required under § 147.21 as it existed prior to this interim final rule.⁹¹

⁹¹ On the effective date of this interim final rule, part 147 (as in effect on the date of enactment of Section 135) shall have no force or effect. See Section 135(a)(2).

In accordance with Section 135 of the statute, AMTS curriculums under part 147 will no longer require FAA approval, as reflected in new § 147.17. As a result, the FAA is making a conforming amendment to § 65.80 by removing reference to an AMTS's “approved” curriculum. This amendment will allow AMTS students to continue testing under § 65.80.

Further, § 65.80 permits students to take the oral and practical test prescribed by § 65.79 during the final subjects of the student's training in the part 147 curriculum before the applicable experience requirements of § 65.77 are met and before the student passes each section of the written test required by § 65.75 when the AMTS shows the student's satisfactory progress to an FAA inspector. In the interest of regulatory standardization, the FAA is revising the language from “an FAA inspector” to “the Administrator.” Additionally, the FAA is removing gender references within the regulatory text.

h. Part 147 Rule Organization and Numbering

Section 135(a)(1) requires the FAA to issue interim final regulations in accordance with the requirements of Section 135. Additionally, Section 135(a)(2) repeals all current regulations upon the effective date of the interim final rule. As a result, some sections of part 147 will retain their section number and heading but contain new requirements in accordance with the statute. Several sections will be repealed and not replaced. Other sections will be renumbered and replaced with new requirements in accordance with the statute. The following table shows the current regulatory sections of part 147 and how they are affected under this interim final rule.

Former section | Former title | New section | New title
§ 147.1 | Applicability | § 147.1 | Applicability.
§ 147.3 | Certificate required | § 147.3 | Certificate required.
§ 147.5 | Application and issue | § 147.5 | Application requirements.
§ 147.7 | Duration of certificates | § 147.7 | Duration of certificates.
§ 147.8 | Employment of former FAA employees | Repealed and not replaced | N/A.
§ 147.11 | Ratings | § 147.11 | Ratings.
§ 147.13 | Facilities, equipment, and material requirements | § 147.13 | Facilities, equipment, and material requirements.
§ 147.15 | Space requirements | Repealed and not replaced | N/A.
§ 147.17 | Instructional equipment requirements | Repealed and not replaced | N/A.
§ 147.19 | Materials, special tools, and shop equipment requirements | Repealed and not replaced | N/A.
§ 147.21 | General curriculum requirements | § 147.17 | Training requirements.
§ 147.23 | Instructor requirements | § 147.19 | Instructor requirements.
§ 147.31 | Attendance and enrollment, tests, and credit for prior instruction or experience | Repealed and not replaced ⁹² | N/A.
§ 147.33 | Records | Repealed and not replaced | N/A.
§ 147.35 | Transcripts and graduation certificates | § 147.21 | Certificate of completion.
§ 147.36 | Maintenance of instructor requirements | Repealed and not replaced | N/A.
§ 147.37 | Maintenance of facilities, equipment, and materials | Repealed and not replaced | N/A.
§ 147.38 | Maintenance of curriculum requirements | Repealed and not replaced | N/A.
§ 147.38a | Quality of instruction | § 147.25 | Minimum passage pate.
§ 147.39 | Display of certificate | § 147.29 | Display of certificate.
§ 147.41 | Change of location | Repealed and not replaced | N/A.
§ 147.43 | Inspection | § 147.27 | FAA inspection.
§ 147.45 | Advertising | Repealed and not replaced | N/A.

Section 135 also requires the FAA to issue new requirements, which have not previously existed in part 147. The following table shows which sections contain these new requirements.

⁹² The repeal of current § 147.31 eliminates the need for schools to obtain exemptions from requirements in that section. As such, exemptions from current § 147.31 will terminate upon the effective date of this interim final rule.

New section | New title
§ 147.15 | Training provided at another location.
§ 147.23 | Quality control system.
§ 147.31 | Early testing.

IV. Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $158,000,000, using the most current (2020) Implicit Price Deflator for the Gross Domestic Product. The FAA has provided a detailed Regulatory Impact Analysis (RIA) in the docket for this rulemaking. This portion of the preamble summarizes the FAA's analysis of the economic impacts of this rule.

In conducting these analyses, the FAA has determined that this rule: Will result in benefits that justify costs; is not an economically “significant regulatory action” as defined in section 3(f) of Executive Order 12866; will not have a significant economic impact on a substantial number of small entities; will not create unnecessary obstacles to the foreign commerce of the United States; and will not impose an unfunded mandate on State, local, or tribal governments, or on the private sector.

A. Regulatory Impact Analysis

This interim final rule establishes regulations that conform to the Act, which sets forth statutory requirements to promote aviation regulations for technician training. Consistent with the statute, this interim final rule adopts new requirements for issuing AMTS certificates and associated ratings and the general operating rules for the holders of those certificates and ratings.

Among other changes that reduce administrative burden and streamline the process to apply for and maintain an AMTS certification, under the interim final rule, an AMTS would need to align their curriculum to the Mechanic ACS rather than the appendices to part 147, which aligned with the Mechanic PTS. The FAA will no longer approve curriculums, but rather will ensure that AMTS curriculums align with the Mechanic ACS through routine surveillance. The interim final rule also requires that an AMTS either be accredited within the meaning of 20 U.S.C. 1001(a)(5) or establish and maintain an FAA-approved quality control system. As the majority of AMTSs are accredited, this change will result in alleviating such AMTSs from the current requirement of FAA approval of grading and attendance policies. Further, the interim final rule (IFR) repeals the prohibition on an AMTS operating at a satellite facility, which potentially expands access to additional training locations. Lastly, another key change in this IFR includes the replacement of the national passing norms with a minimum passage rate requirement; this will create a standard that does not vary over time and does not depend on the performance of other AMTSs.

While the effects of this IFR on overall AMTS training quality and accessibility are unquantified, the FAA expects that this rule will be less burdensome to AMTSs as a whole and will allow for greater flexibility for an AMTS to keep current with industry standards and technological changes in aviation maintenance. Also, although the Mechanic ACS is less prescriptive, it is a more comprehensive set of standards than those previously provided in the part 147 appendices. Therefore, there would be incremental costs to FAA in implementing this interim final rule as the initial development to ensure alignment is expected to take additional time when compared to current curriculum development. Table 4 shows the summary of estimated present value and annualized costs, cost savings, and the net savings using both 3 percent and 7 percent discount rates.

BILLING CODE 4910-13-P

BILLING CODE 4910-13-C

Please see the Regulatory Impact Analysis (RIA) available in the docket for more details.

B. Regulatory Flexibility Act

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553, after that section or any other law requires publication of a general notice of proposed rulemaking. The FAA found good cause to forgo notice and comment for this rule. As notice and comment under 5 U.S.C. 553 are not required in this situation, the regulatory flexibility analyses described in 5 U.S.C. 603 and 604 are not required.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this interim final rule and determined that it has legitimate domestic safety objectives and does not operate in a manner that excludes imports to meet such objectives. Therefore, this interim final rule complies with the Trade Agreements Act.

D. Unfunded Mandates Assessment

The Unfunded Mandates Reform Act of 1995 (2 U.S.C. 1531-1538) governs the issuance of Federal regulations that require unfunded mandates. An unfunded mandate is a regulation that requires a state, local, or tribal government or the private sector to incur direct costs without the Federal Government having first provided the funds to pay those costs. The FAA determined that the interim final rule will not result in the expenditure of $158,000,000 or more by State, local, or tribal governments, in the aggregate, or the private sector, in any one year.

E. Paperwork Reduction Act

The Paperwork Reduction Act of 1995 (44 U.S.C. 3507(d)) (PRA) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

This action contains the following amendments to the existing information collection requirements previously approved under OMB Control Number 2120-0040, Aviation Maintenance Technician Schools. As required by the PRA, the FAA has submitted these information collection amendments to OMB for review.

Summary: The collection involves AMTS applicants and certificate holders under 14 CFR part 147. The part 147 interim final rule results in new, changed, and removed burden, with an overall decrease in burden to the public when compared to the previous information collection approval. Additionally, FAA Form 8310-6, Aviation Maintenance Technician School Certificate and Ratings Application, is revised to reflect the new and changed requirements of this interim final rule.

Public Comments: Because this is an interim final rule, there are no existing public comments on the information collection to discuss. Comments are requested, as discussed in the Comments Invited section of this preamble.

Use: The collection of information includes both reporting and recordkeeping. The information collected is provided to the certificate holder/applicant's appropriate FAA Flight Standards office in order to allow the FAA to determine compliance with the part 147 requirements for obtaining and/or retaining an FAA air agency certificate. For part 147 applicants, when all part 147 requirements have been met, an FAA air agency certificate, with the appropriate ratings, is issued. For certificated part 147 AMTS, the FAA uses the information collected to determine if the AMTS provides appropriate training, as required by part 147, and to ensure that AMTS graduates receive an appropriate document showing the graduate is eligible to take the FAA tests required to obtain a mechanic certificate. Specifically, part 147 imposes information collection burden on the public in the following sections.

For applicants requesting an air agency certificate issued under part 147, § 147.5, Application requirements, requires applicants to complete an application form and provide the FAA with evidence of meeting the requirements of part 147. Application is made using FAA Form 8310-6, Aviation Maintenance Technician School Certificate and Ratings Application. Application requirements include:

• Section 147.5(b)(1) through (3) requires a description of the facilities, equipment and materials used at each location, a description of how the curriculum trains students to meet part 65 requirements, and a description of how the school meets instructor requirements. The FAA includes these descriptions in an AMTS's OpSpecs.

• Section 147.5(b)(4) requires the applicant to submit any additional information necessary to demonstrate compliance with the requirements of part 147, which include: § 147.17, Training requirements—for the school to establish and maintain a curriculum; § 147.19, Instructor requirements—for the school to have instructors who are either FAA-certificated mechanics, or are otherwise specially qualified; and § 147.23, Quality control system—for the school to either be accredited within the meaning of 20 U.S.C. 1001(a)(5) or have a quality control system approved by the FAA.

Following FAA certification, an AMTS must comply with the following regulations, which impose a paperwork burden:

• Section 147.15, Training provided at another location. The AMTS must notify the FAA of the additional locations at which the school will conduct training, in addition to the school's primary location. The FAA includes these additional locations in the AMTS's OpSpecs.

• Section 147.17, Training requirements. The AMTS must establish, maintain, and utilize a curriculum designed to continually align with mechanic airman certification standards as appropriate for the ratings held. When the Mechanic ACS is revised, the AMTS must revise its curriculum to align accordingly.

• Section 147.21, Certificate of completion. The AMTS must issue a document that indicates when a student graduated and the part 147 curriculum that the student completed.

• Section 147.23, Quality control system. An AMTS either be accredited within the meaning of 20 U.S.C. 1001(a)(5) or have a quality control system approved by the FAA that provides for certain procedures listed in § 147.23(b). Therefore, the AMTS must either submit proof of accreditation or submit a quality control system for FAA-approval.

• Section 147.31, Early testing. An AMTS may issue an authenticated document when a student satisfactorily completes only the General course content of an AMTS curriculum.

Respondents: The respondents to this collection are AMTSs issued an FAA air agency certificate under 14 CFR part 147 and AMTS applicants for a part 147 air agency certificate. There are currently 182 FAA-certificated AMTSs.

Frequency: AMTSs must submit information initially prior to certification, and occasionally after certification to comply with ongoing recordkeeping requirements. Applicants must report certain information to the FAA during the application process for the purpose of allowing the FAA to determine compliance with part 147 requirements and, ultimately, issue an air agency certificate, if appropriate. Schools issued a part 147 air agency certificate must report certain information occasionally after certification (e.g., when the certificate holder's operations change). AMTSs that implement a quality control system because they are not accredited by an accrediting agency recognized by the Department of Education must maintain records, as described in the school's FAA-approved quality control system.

Annual Burden Estimate: The part 147 interim final regulations result in a total annual burden to respondents of 11,438 hours and $709,124. This includes recordkeeping burden and reporting burden. This results in an overall reduction in burden to the public from the previous part 147 regulations. Details of burden related to each regulatory requirement are shown in the supporting statement for information collection 2120-0044, submitted to OMB.

The FAA notes that the costs/cost savings calculated in the regulatory impact analysis differ from the AMTS paperwork burden calculated under the PRA. The regulatory impact analysis compares the state of AMTS under current regulations to the expected state of AMTS under the interim final rule. The calculations under PRA estimate the paperwork burden to AMTS under the new interim final rule. The primary areas where these calculations differ are where the regulatory impact analysis assumed a zero cost difference to AMTS in the following areas:

• Recordkeeping costs—Under PRA, the FAA estimates only a single AMTS will have an FAA approved quality control (QC)-system, and thus have FAA-mandated recordkeeping costs. However, for the regulatory impact analysis the FAA assumes that all AMTS will continue to keep student records under the interim final rule, with no substantial change from current costs.

• Graduation documentation—Under PRA, the FAA estimates reflect a cost savings since the interim final regulations remove the requirement for AMTS to provide a transcript to students upon request as mandated in the current regulation. However, for the regulatory impact analysis, the FAA assumes that transcripts are a routine function of schools and that transcripts will be provided to graduating students after implementation of the interim final rule with no substantial change from current costs.

• Completion documentation for early testing—Under the PRA, the FAA estimates that there is a paperwork cost when an AMTS provides completion documentation for students who have completed the General course content of a school's curriculum (for the purpose of early testing eligibility). However, for the regulatory impact analysis the FAA assumes that AMTS are currently tracking student course completion, and will continue to do the same under the interim final rule, therefore there is no change from current costs. Additionally, because it is an option for the AMTS to issue a completion document, schools can choose not to incur this cost.

F. International Compatibility and Cooperation

In keeping with U.S. obligations under the Convention on International Civil Aviation, it is FAA policy to conform to International Civil Aviation Organization (ICAO) Standards and Recommended Practices (SARP) to the maximum extent practicable. The FAA has reviewed the corresponding ICAO SARPs and has determined that there are no ICAO SARPs that correspond to this interim final rule.

However, the FAA identified a filing is required for an ICAO Annex 1 SARP found in Chapter 4 pertaining to certification of maintenance technicians that is unrelated to this rulemaking. Therefore, the FAA has modified an existing difference to reflect that mechanic applicants are not required to have two years of experience in the inspection, servicing, and maintenance of aircraft following the completion of an approved training course to qualify to take the written examination for a mechanic airframe or powerplant license.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 and involves no extraordinary circumstances.

V. Executive Order Determinations

A. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have federalism implications.

B. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the Executive order and it is not likely to have a significant adverse effect on the supply, distribution, or use of energy.

C. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VI. How To Obtain Additional Information

A. Rulemaking Documents

An electronic copy of a rulemaking document may be obtained by using the internet—

1. Search the Federal eRulemaking Portal at www.regulations.gov;

2. Visit the FAA's Regulations and Policies web page at www.faa.gov/regulations_policies/; or

3. Access the Government Printing Office's web page at GovInfo.gov.

Copies may also be obtained by sending a request (identified by notice, amendment, or docket number of this rulemaking) to the Federal Aviation Administration, Office of Rulemaking, ARM-1, 800 Independence Avenue SW, Washington, DC 20591, or by calling (202) 267-9677.

B. Comments Submitted to the Docket

Comments received may be viewed by going to www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the internet, visit www.faa.gov/regulations_policies/rulemaking/sbre_act/.

List of Subjects

14 CFR Part 43

Aircraft, Aviation safety, Life-limited parts, Reporting and recordkeeping requirements.

14 CFR Part 65

Air traffic controllers, Aircraft, Airmen, Airports, Alcohol abuse, Aviation safety, Drug abuse, Incorporation by reference, Reporting and recordkeeping requirements, Security measures.

14 CFR Part 147

Aircraft, Airmen, Education facilities, Incorporation by reference, Reporting and recordkeeping requirements, Schools.

The Amendment

In consideration of the foregoing, the Federal Aviation Administration amends chapter I of title 14, Code of Federal Regulations, as follows:

PART 43—MAINTENANCE, PREVENTATIVE MAINTENANCE, REBUILDING, AND ALTERATION

1. The authority citation for part 43 continues to read as follows:

Authority: 42 U.S.C. 7572; 49 U.S.C. 106(f), 106(g), 40105, 40113, 44701-44702, 44704, 44707, 44709, 44711, 44713, 44715, 45303.

2. Amend appendix A to part 43 by revising paragraph (c)(30)(i) to read as follows:

Appendix A to Part 43—Major Alterations, Major Repairs, and Preventive Maintenance

* * * * *

(c) * * *

(30) * * *

(i) They are performed by the holder of at least a private pilot certificate issued under part 61 of this chapter who is the registered owner (including co-owners) of the affected aircraft and who holds a certificate of competency for the affected aircraft (1) issued by the holder of the production certificate for that primary category aircraft that has a special training program approved under § 21.24 of this subchapter; or (2) issued by another entity that has a course approved by the Administrator; and * * * * *

PART 65—CERTIFICATION: AIRMEN OTHER THAN FLIGHT CREWMEMBERS

3. The authority citation for part 65 continues to read as follows:

Authority: 49 U.S.C. 106(f), 106(g), 40113, 44701-44703, 44707, 44709-44711, 45102-45103, 45301-45302.

4. Add § 65.23 to read as follows:

§ 65.23 Incorporation by reference.

Certain material is incorporated by reference into this part with the approval of the Director of the Federal Register under 5 U.S.C. 552(a) and 1 CFR part 51. This material is available for inspection at the Federal Aviation Administration (FAA) and at the National Archives and Records Administration (NARA). Contact FAA, Airman Testing Standards Branch/Regulatory Support Division, 405-954-4151, AFS630Comments@faa.gov. For information on the availability of this material at NARA, email fr.inspection@nara.gov, or go to www.archives.gov/federal-register/cfr/ibr-locations.html. The material may be obtained from the source in the following paragraph of this section.

(a) Federal Aviation Administration, 800 Independence Avenue SW, Washington, DC 20591, 866-835-5322, www.faa.gov/training_testing.

(1) FAA-S-8081-26B, Aviation Mechanic General, Airframe, and Powerplant Practical Test Standards, November 1, 2021; IBR approved for §§ 65.75 and 65.79.

(2) FAA-S-ACS-1, Aviation Mechanic General, Airframe, and Powerplant Airman Certification Standards, November 1, 2021; IBR approved for §§ 65.75 and 65.79.

(b) [Reserved]

5. Amend § 65.75 by revising paragraph (a) and adding paragraph (c) to read as follows:

§ 65.75 Knowledge requirements.

(a) Except as specified in paragraph (c) of this section, each applicant for a mechanic certificate or rating must, after meeting the applicable experience requirements of § 65.77, pass a written test, appropriate to the rating sought, which includes:

(1) Until July 31, 2023, the subject areas contained in the Aviation Mechanic General, Airframe, and Powerplant Practical Test Standards (incorporated by reference, see § 65.23), as appropriate to the rating sought.

(2) After July 31, 2023, the aeronautical knowledge subject areas contained in the Aviation Mechanic General, Airframe, and Powerplant Airman Certification Standards (incorporated by reference, see § 65.23), as appropriate to the rating sought.

* * * * *

(c) An applicant for a mechanic certificate or rating may take the mechanic general written test prior to meeting the applicable experience requirements of § 65.77, provided the applicant presents an authenticated document from a certificated aviation maintenance technician school that demonstrates satisfactory completion of the general portion of the school's curriculum and specifies the completion date.

6. Effective August 1, 2023, amend § 65.75 by revising paragraph (a) to read as follows:

§ 65.75 Knowledge requirements.

(a) Except as specified in paragraph (c) of this section, each applicant for a mechanic certificate or rating must, after meeting the applicable experience requirements of § 65.77, pass a written test, appropriate to the rating sought, which includes the aeronautical knowledge subject areas contained in the Aviation Mechanic General, Airframe, and Powerplant Airman Certification Standards (incorporated by reference, see § 65.23), as appropriate to the rating sought.

* * * * *

7. Revise § 65.77 to read as follows:

§ 65.77 Experience requirements

Each applicant for a mechanic certificate or rating must present either—

(a) An authenticated document from a certificated aviation maintenance technician school in accordance with § 147.21 of this chapter; or

(b) Documentary evidence, satisfactory to the Administrator, of—

(1) At least 18 months of practical experience with the procedures, practices, materials, tools, machine tools, and equipment generally used in constructing, maintaining, or altering airframes or powerplants, appropriate to the rating sought; or

(2) At least 30 months of practical experience concurrently performing the duties appropriate to both the airframe and powerplant ratings.

8. Revise § 65.79 to read as follows:

§ 65.79 Skill requirements.

Each applicant for a mechanic certificate or rating must pass an oral test and a practical test, as appropriate to the rating sought, by demonstrating:

(a) Until July 31, 2023, the prescribed proficiency in the assigned objectives for the subject areas contained in the Aviation Mechanic General, Airframe, and Powerplant Practical Test Standard (incorporated by reference, see § 65.23), as appropriate to the rating sought.

(b) After July 31, 2023, satisfactory understanding of the knowledge, risk management, and skill elements for each subject contained in the Aviation Mechanic General, Airframe, and Powerplant Airmen Certification Standards (incorporated by reference, see § 65.23), as appropriate to the rating sought.

9. Effective August 1, 2023, revise § 65.79 to read as follows:

§ 65.79 Skill requirements.

Each applicant for a mechanic certificate or rating must pass an oral test and a practical test, as appropriate to the rating sought, by demonstrating satisfactory understanding of the knowledge, risk management, and skill elements for each subject contained in the Aviation Mechanic General, Airframe, and Powerplant Airmen Certification Standards (incorporated by reference, see § 65.23), as appropriate to the rating sought.

10. Revise § 65.80 to read as follows:

§ 65.80 Certificated aviation maintenance technician school students.

Whenever an aviation maintenance technician school certificated under part 147 of this chapter shows to the Administrator that any of its students has made satisfactory progress at the school and is prepared to take the oral and practical tests prescribed by § 65.79, that student may take those tests during the final subjects of the student's training in the curriculum required under part 147, before the student meets the applicable experience requirements of § 65.77 and before the student passes each section of the written test prescribed by § 65.75.

11. Revise part 147 to read as follows:

PART 147—AVIATION MAINTENANCE TECHNICIAN SCHOOLS

Subpart A—General
Sec.
147.1 Applicability.
147.3 Certificate required.
147.5 Application requirements.
147.7 Duration of certificates.
147.11 Ratings.
Subpart B—Certification and Operating Requirements
147.13 Facilities, equipment, and material requirements.
147.15 Training provided at another location.
147.17 Training requirements.
147.19 Instructor requirements.
147.21 Certificate of completion.
147.23 Quality control system.
147.25 Minimum passage rate.
147.27 FAA inspection.
147.29 Display of certificate.
147.31 Early testing.

Authority: 49 U.S.C. 106(g), 40113, 44701-44702, 44707-44709; Sec. 135, Public Law 116-260, 134 Stat. 1182.

Subpart A—General

§ 147.1 Applicability.

This part prescribes the requirements for issuing aviation maintenance technician school certificates and associated ratings and the general operating rules for the holders of those certificates and ratings.

§ 147.3 Certificate required.

No person may operate an aviation maintenance technician school without, or in violation of, an aviation maintenance technician school certificate and the operations specifications issued under this part.

§ 147.5 Application requirements.

(a) To be issued a certificate or rating under this part, an applicant must demonstrate compliance with the requirements of this part.

(b) An application for a certificate and rating to operate an aviation maintenance technician school must include the following:

(1) A description of the facilities, including the physical address of the applicant's primary location for operation of the school, and any additional fixed locations where training will be provided, and the equipment and materials to be used at each location;

(2) A description of the manner in which the school's curriculum will ensure the student has the knowledge and skills necessary for attaining a mechanic certificate and associated ratings under subpart D of part 65 of this chapter;

(3) A description of the manner in which the school will ensure it provides the necessary qualified instructors to meet the requirements of § 147.19; and

(4) Any additional information necessary to demonstrate compliance with the requirements of this part.

(c) An application for an additional rating or amended certificate must include only the information required by paragraph (b) of this section that is necessary to substantiate the reason for the additional rating or change sought.

§ 147.7 Duration of certificates.

An aviation maintenance technician school certificate or rating issued under this part is effective from the date of issue until the certificate or rating is surrendered, suspended, or revoked.

§ 147.11 Ratings.

The following ratings may be issued under this part:

(a) Airframe.

(b) Powerplant.

(c) Airframe and powerplant.

Subpart B—Certification and Operating Requirements

§ 147.13 Facilities, equipment, and material requirements.

(a) Each certificated aviation maintenance technician school must provide and maintain the facilities, equipment, and materials that are appropriate to the rating or ratings held by the school and the number of students taught.

(b) For certificated aviation maintenance technician schools that provide training at more than one location in accordance with § 147.15, the facilities, equipment, and materials used at each location must be appropriate to the curriculum or portion of the curriculum, and the number of students being taught, at that location.

§ 147.15 Training provided at another location.

A certificated aviation maintenance technician school may provide training at any fixed location other than its primary location, provided the additional training location meets the requirements of this part and is listed in the certificate holder's operations specifications.

§ 147.17 Training requirements.

(a) Each certificated aviation maintenance technician school must:

(1) Establish, maintain, and utilize a curriculum that is designed to continually align with the mechanic airman certification standards referenced in paragraph (b) of this section, as appropriate for the ratings held;

(2) Provide training of a quality that meets the requirements of § 147.25; and

(3) Ensure students have the knowledge and skills necessary to be prepared to test for a mechanic certificate and associated ratings under subpart D of part 65 of this chapter.

(b) FAA-S-ACS-1, Aviation Mechanic General, Airframe, and Powerplant Airman Certification Standards, November 1, 2021, is incorporated by reference into this section with the approval of the Director of the Federal Register under 5 U.S.C. 552(a) and 1 CFR part 51. This material is available for inspection at the Federal Aviation Administration (FAA) and the National Archives and Records Administration (NARA). Contact FAA, Airman Testing Standards Branch/Regulatory Support Division, 405-954-4151, AFS630Comments@faa.gov. For information on the availability of this material at NARA, email: fr.inspection@nara.gov, or go to www.archives.gov/federal-register/cfr/ibr-locations.html. The material may be obtained from FAA, 800 Independence Avenue SW, Washington, DC 20591, 866-835-5322, www.faa.gov/training_testing.

§ 147.19 Instructor requirements.

Each certificated aviation maintenance technician school must:

(a) Provide qualified instructors to teach in a manner that ensures positive educational outcomes are achieved;

(b) Ensure instructors either—

(1) Hold a mechanic certificate with one or more appropriate ratings; or

(2) If they do not hold a mechanic certificate, are otherwise specifically qualified to teach their assigned content; and

(c) Ensure the student-to-instructor ratio does not exceed 25:1 for any shop class.

§ 147.21 Certificate of completion.

Each certificated aviation maintenance technician school must provide an authenticated document to each graduating student, indicating the student's date of graduation and curriculum completed.

§ 147.23 Quality control system.

(a) Each certificated aviation maintenance technician school must—

(1) Be accredited within the meaning of 20 U.S.C. 1001(a)(5); or

(2) Establish and maintain a quality control system that meets the requirements specified in paragraph (b) of this section, and is approved by the Administrator.

(b) The quality control system specified in paragraph (a)(2) of this section must provide procedures for recordkeeping, assessment, issuing credit, issuing of final course grades, attendance, ensuring sufficient number of instructors, granting of graduation documentation, and corrective action for addressing deficiencies.

§ 147.25 Minimum passage rate.

(a) Each certificated aviation maintenance technician school must maintain the pass rate specified in paragraph (b) of this section for the most recent 3-year period.

(b) For students who take an FAA mechanic test under part 65 of this chapter within 60 days after graduation, at least 70 percent of students must pass one of the following tests or any combination thereof:

(1) Written test;

(2) Oral test; or

(3) Practical test.

(c) For students who take a combination of tests within the 60-day window specified in paragraph (b) of this section, an aviation maintenance technician school must count a failure on any one test as a student failure for purposes of determining the pass rate, unless that failed test is subsequently passed within the 60-day window.

§ 147.27 FAA inspection.

A certificated aviation maintenance technician school must allow the Administrator such access as the Administrator determines necessary to inspect the one or more locations of the school for purposes of determining the school's compliance with the requirements of this part.

§ 147.29 Display of certificate.

A certificated aviation maintenance technician school must display its aviation maintenance technician school certificate at a place in each location of the school, including the primary location and any additional fixed locations, that is visible by and normally accessible to the public.

§ 147.31 Early testing.

When a student satisfactorily completes the general portion of a certificated aviation maintenance technician school's curriculum, the school may issue an authenticated document that demonstrates the student's preparedness to take the mechanic general written test in accordance with § 65.75(c) of this chapter.

Issued under authority provided by 49 U.S.C. 106(f), 44701(a), and 44703, and Sec. 135 of the Aircraft Certification, Safety, and Accountability Act within Public Law 116-260, in Washington, DC, on May 6, 2022.
Billy Nolen,
Acting Administrator.

[FR Doc. 2022-10367 Filed 5-23-22; 8:45 am]

BILLING CODE 4910-13-P